DEPARTMENT OF STATE

[ID.122005D]

Office of Oceans Affairs; New Conservation Measures for Antarctic Fishing Under the Auspices of CCAMLR

AGENCY: Office of Oceans Affairs, Department of State.

ACTION: Notice.

SUMMARY: At its Twenty-Fourth Meeting in Hobart, Tasmania, from October 24 to November 4, 2005, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twenty-Fourth meeting of CCAMLR. For all of the conservation measures in force, see the CCAMLR Web site at http://www.ccamlr.org. This notice, therefore, together with the U.S. regulations referenced under the Supplementary Information, provides a comprehensive register of all current U.S. obligations under CCAMLR.

DATES: Persons wishing to comment on the measures or desiring more information should submit written comments by February 27, 2006.

FOR FURTHER INFORMATION CONTACT: Hunter H. Cashdollar, Office of Oceans Affairs (OES/OA), Room 5805, Department of State, Washington, DC 20520; tel: 202-647-3947; fax: 202-647-9099; e-mail: cashdollarhh@state.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Conventional area and contain the text of CCAMLR Conservation Measures that are not expected to change from year to year. The regulations in Subparts A and G include sections on: Purpose and scope; Definitions; Relationship to other treaties, conventions, laws and regulations; Procedure for according protection to CCAMLR Ecosystem Monitoring Program Sites; Scientific Research; Initiating a new fishery; Exploratory fisheries; Reporting and record keeping requirements; Vessel and gear identification; Gear disposal; Mesh Size; Harvesting permits; Import permits; Appointment of a designated representative; Prohibitions; Facilitation of enforcement and inspection; and Penalties.

Review of existing conservation measures and resolutions:

The Commission noted that the following conservation measures will lapse on 30 November 2005: 32-09 (2004), 33-02 (2004), 33-03 (2004), 41-01 (2004), 41-02 (2004), 41-04 (2004), 41-05 (2004), 41-06 (2004), 41-07 (2004), 41-08 (2004), 41-09 (2004), 41-10 (2004), 41-11 (2004), 42-02 (2004), 52-01 (2004), 52-02 (2004) and 61-01 (2004). The Commission also noted that Conservation Measure 42-01 (2004) will lapse on 14 November 2005. All of these measures dealt with fishery-related matters for the 2004/05 season.

The Commission agreed that the following conservation measures will remain in force in 2005/06: Compliance 10-01 (1998), 10-02 (2004). General Fishery Matters 21-01 (2002), 22-01 (1986), 22-02 (1984), 22-03 (1990), 23-02 (1993), 23-03 (1991), 23-04 (2000), 23-05 (2000), 25-01 (1996), 25-03 (2003). Fishery Regulations 31-01 (1986), 32-01 (2001), 32-02 (1998), 32-03 (1998), 32-04 (1986), 32-05 (1986), 32-06 (1985), 32-07 (1999), 32-08 (1997), 32-10 (2002), 32-11 (2002), 32-16 (2003), 32-17 (2003), 33-01 (1995), 51-01 (2002), 51-02 (2002), 51-03 (2002). Protected Areas 91-01 (2004), 91-02 (2004), 91-03 (2004).

At its twenty-fourth meeting in Hobart, Tasmania, the Commission agreed that the following resolutions will remain in force in 2005/06: 7/IX, 10/XII, 14/XIX, 15/XXII, 16/XIX, 17/XX, 18/XXI, 19/XXI, 20/XXII, 21/XXIII, 22/XXIII and 23/XXIII.

New and Revised Conservation Measures. The Commission revised the following conservation measures at its twenty-fourth meeting: Compliance 10-03 (2002), 10-04 (2004), 10-05 (2004), 10-06 (2004), 10-07 (2003). General fishery matters: 21-02 (2004), 23-01 (2004), 23-06 (2004), 24-01 (2003), 24-02 (2004) and 25-02 (2003).

In addition, thirty Conservation Measures and one Resolution were adopted at the twenty-fourth meeting: (For further information, see the CCAMLR Web site at http://www.ccamlr.org under Publications for the Schedule of Conservation Measures in Force (2005/2006), or contact the Commission at the CCAMLR Secretariat, P.O. Box 213, North Hobart, Tasmania 7002, Australia. Tel: (61) 3-6234-9965.)

Conservation Measures and Resolutions Adopted at CCAMLR-XXIV

Conservation Measure 10-03 (2005) 1 2 3

Port Inspections of Vessels Carrying Toothfish

1. Contracting Parties shall undertake inspections of all fishing vessels carrying Dissostichus spp. which enter their ports. The inspection shall be for the purpose of determining that if the vessel carried out harvesting activities in the Convention Area, these activities were carried out in accordance with CCAMLR conservation measures, and that if it intends to land or tranship Dissostichus spp. the catch to be unloaded or transhipped is accompanied by a Dissostichus catch document required by Conservation Measure 10-05 and that the catch agrees with the information recorded on the document.

2. To facilitate these inspections, Contracting Parties shall require vessels to provide advance notice of their entry into port and to convey a written declaration that they have not engaged in or supported illegal, unreported and unregulated (IUU) fishing in the Convention Area. The inspection shall be conducted within 48 hours of port entry and shall be carried out in an expeditious fashion. It shall impose no undue burdens on the vessel or its crew, and shall be guided by the relevant provisions of the CCAMLR System of Inspection. Vessels which either declare that they have been involved in IUU fishing or fail to make a declaration shall be denied port access, other than for emergency purposes.

3. In the event that there is evidence that the vessel has fished in contravention of CCAMLR conservation measures, the catch shall not be landed or transshipped. The Contracting Party will inform the Flag State of the vessel of its inspection findings and will cooperate with the Flag State in taking such appropriate action as is required to investigate the alleged infringement and, if necessary, apply appropriate sanctions in accordance with national legislation.

4. Contracting Parties shall promptly provide the Secretariat with a report on the outcome of each inspection conducted under this conservation measure. In respect of any vessels denied port access or permission to land or tranship Dissostichus spp., the Secretariat shall promptly convey such reports to all Contracting Parties and to all non-Contracting Parties cooperating with the Commission by participating in the Catch Documentation.

Scheme for Dissostichus spp. (CDS)

¹ Except for waters adjacent to the Kerguelen and Crozet Islands.

² Except for waters adjacent to the Prince Edward Islands.

³ Excluding by-catches of Dissostichus spp. by trawlers fishing on the high seas outside the Convention Area. A by-catch shall be defined as no more than 5% of total catch of all species and no more than 50 tonnes for an entire fishing trip by a vessel.

Conservation Measure 10-04 (2005)

Automated Satellite-Linked Vessel Monitoring Systems (VMS)

Species all except krill

Area all

Season all

Gear all

The Commission, recognizing that in order to promote the objectives of the Convention and further improve compliance with the relevant conservation measures, Convinced that illegal, unreported and unregulated (IUU) fishing compromises the objective of the Convention, recalling that Contracting Parties are required to cooperate in taking appropriate action to deter any fishing activities which are not consistent with the objective of the Convention, mindful of the rights and obligations of Flag States and Port States to promote the effectiveness of conservation measures, wanting to reinforce the conservation measures already adopted by the Commission, recognising the obligations and responsibilities of Contracting Parties under the Catch Documentation Scheme for Dissostichus spp. (CDS), Recalling provisions as made under Article XXIV of the Convention, Committed to take steps, consistent with international law, to identify the origins of 589 Dissostichus spp. entering the markets of Contracting Parties and to determine whether Dissostichus spp. harvested in the Convention Area that is imported into their territories was caught in a manner consistent with CCAMLR conservation measures, hereby adopts the following conservation measure in accordance with Article IX of the Convention:

1. Each Contracting Party shall ensure that its fishing vessels, licensed ¹ in accordance with Conservation Measure 10-02, are equipped with a satellite-linked vessel monitoring device allowing for the continuous reporting of their position in the Convention Area for the duration of the license issued by the Flag State. The vessel monitoring device shall automatically communicate at least every four hours to a land-based fisheries monitoring centre (FMC) of the Flag State of the vessel the following data:

(i) Fishing vessel identification;

(ii) The current geographical position (latitude and longitude) of the vessel, with a position error which shall be less than 500 m, with a confidence interval of 99%; and

(iii) The date and time (expressed in UTC) of the fixing of the said position of the vessel.

2. The implementation of vessel monitoring device(s) on vessels while participating only in a krill fishery is not currently required.

3. Each Contracting Party as a Flag State shall ensure that the vessel monitoring device(s) on board its vessels are tamper proof, i.e. are of a type and configuration that prevent the input or output of false positions, and that are not capable of being over-ridden, whether manually, electronically or otherwise. To this end, the on-board satellite monitoring device must:

(i) Be located within a sealed unit; and

(ii) Be protected by official seals (or mechanisms) of a type that indicate whether the unit has been accessed or tampered with.

4. In the event that a Contracting Party has information to suspect that an on-board vessel monitoring device does not meet the requirements of paragraph 3, or has been tampered with, it shall immediately notify the Secretariat and the vessel's Flag State.

5. Each Contracting Party shall ensure that its FMC receives Vessel Monitoring System (VMS) reports and messages, and that the FMC is equipped with computer hardware and software enabling automatic data processing and electronic data transmission. Each Contracting Party shall provide for backup and recovery procedures in case of system failures.

6. Masters and owners/licensees of fishing vessels subject to VMS shall ensure that the vessel monitoring device on board their vessels within the Convention Area is at all times fully operational as per paragraph 1, and that the data are transmitted to the Flag State. Masters and owners/licensees shall in particular ensure that:

(i) VMS reports and messages are not altered in any way;

(ii) The antennae connected to the satellite monitoring device are not obstructed in anyway;

(iii) The power supply of the satellite monitoring device is not interrupted in any way; and

(iv) The vessel monitoring device is not removed from the vessel.

7. A vessel monitoring device shall be active within the Convention Area. It may, however, be switched off when the fishing vessel is in port for a period of more than one week, subject to prior notification to the Flag State, and if the Flag State so desires also to the Secretariat, and providing that the first position report generated following the repowering (activating) shows that the fishing vessel has not changed position compared to the last report.

8. In the event of a technical failure or non-functioning of the vessel monitoring device on board the fishing vessel, the master or the owner of the vessel, or their representative, shall communicate to the Flag State every six hours, and if the Flag State so desires also to the Secretariat, starting at the time that the failure or the non-functioning was detected or notified in accordance with paragraph 12, the up-to-date geographical position of the vessel by electronic means (email, facsimile, telex, telephone message, radio).

9. Vessels with a defective vessel monitoring device shall take immediate steps to have the device repaired or replaced as soon as possible and, in any event, within two months. If the vessel during that time returns to port, it shall not be allowed by the Flag State to commence a further fishing trip in the Convention Area without having the defective device repaired or replaced.

10. When the Flag State has not received for 12 hours data transmissions referred to in paragraphs 1 and 8, or has reasons to doubt the correctness of the data transmissions under paragraphs 1 and 8, it shall as soon as possible notify the master or the owner or the representative thereof. If this situation occurs more than two times within a period of one year in respect of a particular vessel, the Flag State of the vessel shall investigate the matter, including having an authorized official check the device in question, in order to establish whether the equipment has been tampered with. The outcome of this investigation shall be forwarded to the CCAMLR Secretariat within 30 days of its completion.

11.2 3 Each Contracting Party shall forward VMS reports and messages received, pursuant to paragraph 1, to the CCAMLR Secretariat as soon as possible:

(i) But not later than four hours after receipt for those exploratory longline fisheries subject to conservation measures adopted at CCAMLR-XXIV; or

(ii) But not later than 10 working days following departure from the Convention Area for all other fisheries.

12. With regard to paragraphs 8 and 11(i), each Contracting Party shall, as soon as possible but no later than two working days following detection or notification of technical failure or non-functioning of the vessel monitoring device on board the fishing vessel, forward the geographical positions of the vessel to the Secretariat, or shall ensure that these positions are forwarded to the Secretariat by the master or the owner of the vessel, or their representative.

13. Each Flag State shall ensure that VMS reports and messages transmitted by the Contracting Party or its fishing vessels to the CCAMLR Secretariat, are in a computer readable form in the data exchange format set out in Annex 10-04/A.

14. Each Flag State shall in addition notify the CCAMLR Secretariat as soon as possible of each entry to, exit from and movement between sub areas and divisions of the Convention Area by each of its fishing vessels in the format outlined in Annex 10-04/A.

15. Without prejudice to its responsibilities as a Flag State, if the Contracting Party so desires, it shall ensure that each of its vessels communicates the reports referred to in paragraphs 11 and 14 in parallel to the CCAMLR Secretariat.

16. Each Flag State shall notify the name, address, email, telephone and facsimile numbers, as well as the address of electronic communication of the relevant authorities of their FMC to the CCAMLR Secretariat before 1 January 2005 and thereafter any changes without delay.

17. In the event that the CCAMLR Secretariat has not, for 48 consecutive hours, received the data transmissions referred to in paragraph 11(i), it shall promptly notify the Flag State of the vessel and require an explanation. The CCAMLR Secretariat shall promptly inform the Commission if the data transmissions at issue, or the Flag State explanation, are not received from the Contracting Party within a further five working days.

18. The CCAMLR Secretariat and all Parties receiving data shall treat all VMS reports and messages received under paragraph 11 or paragraphs 19, 20, 21 or 22 in a confidential manner in accordance with the confidentiality rules established by the Commission as contained in Annex 10-04/B. Data from individual vessels shall be used for compliance purposes only, namely for:

(i) Active surveillance presence, and/or inspections by a Contracting Party in a specified CCAMLR sub area or division; or

(ii) The purposes of verifying the content of a Dissostichus Catch Document (DCD).

19. The CCAMLR Secretariat shall place a list of vessels submitting VMS reports and messages pursuant to this conservation measure on a password-protected section of the CCAMLR website. This list shall be divided into sub areas and divisions, without indicating the exact positions of vessels, and be updated when a vessel changes sub area or division. The list shall be posted daily by the Secretariat, establishing an electronic archive.

20. VMS reports and messages (including vessel locations), for the purposes of paragraph 18(i) above, may be provided by the Secretariat to a Contracting Party other than the Flag State without the permission of the Flag State only during active surveillance, and/or inspection in accordance with the CCAMLR System of Inspection and subject to the time frames set out in paragraph 11. In this case, the Secretariat shall provide VMS reports and messages, including vessel locations over the previous 10 days, for vessels actually detected during surveillance, and/or inspection by a Contracting Party, and VMS reports and messages (including vessel locations) for all vessels within 100 n miles of that same location. The Flag State(s) concerned shall be provided by the Party conducting the active surveillance, and/or inspection, with a report including name of the vessel or aircraft on active surveillance, and/or inspection under the CCAMLR System of Inspection, and the full name(s) of the CCAMLR inspector(s) and their ID number(s). The Parties conducting the active surveillance, and/or inspection will make every reasonable effort to make this information available to the Flag State(s) as soon as possible.

21. A Party may contact the Secretariat prior to conducting active surveillance, and/or inspection in accordance with the CCAMLR System of Inspection, in a given area and request VMS reports and messages (including vessel locations), for vessels in that area. The Secretariat shall provide this information only with the permission of the Flag State for each of the vessels and according to the time frames set out in paragraph 11. On receipt of Flag State permission the Secretariat shall provide regular updates of positions to the Contracting Party for the duration of the active surveillance, and/or inspection in accordance with the CCAMLR System of Inspection.

22. A Contracting Party may request actual VMS reports and messages (including vessel locations) from the Secretariat for a vessel when verifying the claims on a DCD. In this case the Secretariat shall provide that data only with Flag State permission.

23. The CCAMLR Secretariat shall annually, before 30 September, report on the implementation of and compliance with this conservation measure to the Commission.

¹ Includes vessels licensed under French domestic law and vessels licensed under South African domestic law.

² This paragraph does not apply to vessels licensed under French domestic law in the EEZs surrounding Kerguelen and Crozet Islands.

³ This paragraph does not apply to vessels licensed under South African domestic law in the EEZ surrounding Prince Edward Islands.

Annex 10-04/A

VMS Data Format

‘Position’, ‘Exit’ and ‘Entry’ Reports Messages

Data element Field code.

Mandatory/Optional Remarks.

Start record SR M System detail; indicates start of record.

Address AD M Message detail; destination; ‘XCA’ for CCAMLR.

Sequence number SQ M ¹ Message detail; message serial number in current year.

Type of message TM ² M Message detail; message type, ‘POS’ as position report/message to be communicated by VMS or other means by vessels with a defective satellite tracking device.

Radio call sign RC M Vessel registration detail; international radio call sign of the vessel.

Trip number TN O Activity detail; fishing trip serial number in current year.

Vessel name NA M Vessel registration detail; name of the vessel.

Contracting Party internal reference number IR O Vessel registration detail. Unique Contracting Party vessel number as ISO-3 Flag State code followed by number.

External registration number XR O Vessel registration detail; the side number of the vessel.

Latitude LA M ³ Activity detail; position.

Longitude LO M ³ Activity detail; position.

Latitude (decimal) LT M ⁴ Activity detail; position.

Longitude (decimal) LG M ⁴ Activity detail; position.

Date DA M Message detail; position date.

Time TI M Message detail; position time in UTC.

End of record ER M System detail; indicates end of the record.

¹ Optional in case of a VMS message.

² Type of message shall be “ENT” for the first VMS message from the Convention Area as detected by the FMC of the Contracting Party, or as directly submitted by the vessel. Type of message shall be ‘EXI’ for the first VMS message from outside the Convention Area as detected by the FMC of the Contracting Party or as directly submitted by the vessel, and the values for latitude and longitude are, in this type of message, optional. Type of message shall be ‘MAN’ for reports communicated by vessels with a defective satellite tracking device.

³ Mandatory for manual messages.

⁴ Mandatory for VMS messages.

Annex 10-04/B

Provisions on Secure and Confidential Treatment of Electronic Reports and Messages Transmitted Pursuant to Conservation Measure 10-04

1. Field of Application

1.1 The provisions set out below shall apply to all VMS reports and messages transmitted and received pursuant to Conservation Measure 10-04.

2. General Provisions

2.1 The CCAMLR Secretariat and the appropriate authorities of Contracting Parties transmitting and receiving VMS reports and messages shall take all necessary measures to comply with the security and confidentiality provisions set out in sections 3 and 4.

2.2 The CCAMLR Secretariat shall inform all Contracting Parties of the measures taken in the Secretariat to comply with these security and confidentiality provisions.

2.3 The CCAMLR Secretariat shall take all the necessary steps to ensure that the requirements pertaining to the deletion of VMS reports and messages handled by the Secretariat are complied with.

2.4 Each Contracting Party shall guarantee the CCAMLR Secretariat the right to obtain as appropriate, the rectification of reports and messages or the erasure of VMS reports and messages, the processing of which does not comply with the provisions of Conservation Measure 10-04.

3. Provisions on Confidentiality

3.1 All requests for data must be made to the CCAMLR Secretariat in writing. Requests for data must be made by the main Commission Contact or an alternative contact nominated by the main Commission Contact of the Contracting Party concerned. The Secretariat shall only provide data to a secure email address specified at the time of making a request for data.

3.2 In cases where the CCAMLR Secretariat is required to seek the permission of the Flag State before releasing VMS reports and messages to another Party, the Flag State shall respond to the Secretariat as soon as possible but in any case within two working days.

3.3 Where the Flag State chooses not to give permission for the release of VMS reports and messages, the Flag State shall, in each instance, provide a written report within 10 working days to the Commission outlining the reasons why it chooses not to permit data to be released. The CCAMLR Secretariat shall place any report so provided, or notice that no report was received, on a password-protected part of the CCAMLR website.

3.4 VMS reports and messages shall only be released and used for the purposes stipulated in paragraph 18 of Conservation Measure 10-04.

3.5 VMS reports and messages released pursuant to paragraphs 20, 21 and 22 of Conservation Measure 10-04 shall provide details of: name of vessel, date and time of position report, and latitude and longitude position at time of report.

3.6 Regarding paragraph 21 each inspecting Contracting Party shall make available VMS reports and messages and positions derived there from only to their inspectors designated under the CCAMLR System of Inspection. VMS reports and messages shall be transmitted to their inspectors no more than 48 hours prior to entry into the CCAMLR, sub area or division where surveillance is to be conducted by the Contracting Party. Contracting Parties must ensure that VMS reports and messages are kept confidential by such inspectors.

3.7 The CCAMLR Secretariat shall delete all the original VMS reports and messages referred to in section 1 from the database at the CCAMLR Secretariat by the end of the first calendar month following the third year in which the VMS reports and messages have originated. Thereafter the information related to the movement of the fishing vessels shall only be retained by the CCAMLR Secretariat after measures have been taken to ensure that the identity of the individual vessels can no longer be established.

3.8 Contracting Parties may retain and store VMS reports and messages provided by the Secretariat for the purposes of active surveillance presence, and/or inspections, until 24 hours after the vessels to which the reports and messages pertain have departed from the CCAMLR sub area or division. Departure is deemed to have been effected six hours after the transmission of the intention to exit from the CCAMLR sub area or division.

4. Provisions on Security

4.1 Overview

4.1.1 Contracting Parties and the CCAMLR Secretariat shall ensure the secure treatment of VMS reports and messages in their respective electronic data processing facilities, in particular where the processing involves transmission over a network. Contracting Parties and the CCAMLR Secretariat must implement appropriate technical and organizational measures to protect reports and messages against accidental or unlawful destruction or accidental loss, alteration, unauthorized disclosure or access, and against all inappropriate forms of processing.

4.1.2 The following security issues must be addressed from the outset:

• System access control: The system has to withstand a break-in attempt from unauthorized persons.

• Authenticity and data access control: The system has to be able to limit the access of authorized parties to a predefined set of data only

• Communication security: It shall be guaranteed that VMS reports and messages are securely communicated.

• Data security: It has to be guaranteed that all VMS reports and messages that enter the system are securely stored for the required time and that they will not be tampered with.

• Security procedures: Security procedures shall be designed addressing access to the system (both hardware and software), system administration and maintenance, backup and general usage of the system.

4.1.3 Having regard to the state of the art and the cost of their implementation, such measures shall ensure a level of security appropriate to the risks represented by the processing of the reports and the messages.

4.1.4 Security measures are described in more detail in the following paragraphs.

4.2 System Access Control

4.2.1 The following features are the mandatory requirements for the VMS installation located at the CCAMLR Data Centre:

• A stringent password and authentication system: each user of the system is assigned a unique user identification and associated password. Each time the user logs on to the system he/she has to provide the correct password. Even when successfully logged on the user only has access to those and only those functions and data that he/she is configured to have access to. Only a privileged user has access to all the data.

• Physical access to the computer system is controlled.

• Auditing: Selective recording of events for analysis and detection of security breaches.

• Time-based access control: access to the system can be specified in terms of times-of-day and days-of-week that each user is allowed to log on to the system.

• Terminal access control: Specifying for each workstation which users are allowed to access.

4.3 Authenticity and Data Access Security

4.3.1 Communication between Contracting Parties and the CCAMLR Secretariat for the purpose of Conservation Measure 10-04 shall use secure Internet protocols SSL, DES or verified certificates obtained from the CCAMLR Secretariat.

4.4 Data Security

4.4.1 Access limitation to the data shall be secured via a flexible user identification and password mechanism. Each user shall be given access only to the data necessary for their task.

4.5 Security Procedures

4.5.1 Each Contracting Party and the CCAMLR Secretariat shall nominate a security system administrator. The security system administrator shall review the log files generated by the software for which they are responsible, properly maintain the system security for which they are responsible, restrict access to the system for which they are responsible as deemed needed and in the case of Contracting Parties, also act as a liaison with the Secretariat in order to solve security matters.

Conservation Measure 10-05 (2005)

Catch Documentation Scheme for Dissostichus spp.

Species Toothfish

Season all

Season all

Gear all

The Commission,

Concerned that illegal, unreported and unregulated (IUU) fishing for Dissostichus spp. In the Convention Area threatens serious depletion of populations of Dissostichus spp.,

Aware that IUU fishing involves significant by-catch of some Antarctic species, including endangered albatross, Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. (CDS) will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the CDS, hereby adopts the following conservation measure in accordance with Article IX of the Convention:

1. The following definitions are intended only for the purposes of the completion of CDS documents and shall be applied as stated regardless of whether such actions as landings, transhipments, imports, exports or re-exports constitute the same under any CDS participant's customs law or other domestic legislation:

(i) Port State: The State that has control over a particular port area or free trade zone for the purposes of landing, transhipment, importing, exporting and re-exporting and whose authority serves as the authority for landing or transhipment certification.

(ii) Landing: The initial transfer of catch in its harvested or processed form from a vessel to dockside or to another vessel in a port or free trade zone where the catch is certified by an authority of the Port State as landed.

(iii) Export: Any movement of a catch in its harvested or processed form from territory under the control of the State or free trade zone of landing, or, where that State or free trade zone forms part of a customs union, any other member State of that customs union.

(iv) Import: The physical entering or bringing of a catch into any part of the geographical territory under the control of a State, except where the catch is landed or transhipped within the definitions of ‘landing’ or ‘transhipment’ in this conservation measure.

(v) Re-export: Any movement of a catch in its harvested or processed form from territory under the control of a State, free trade zone, or member State of a customs union of import unless that State, free trade zone, or any member State of that customs union of import is the first place of import, in which case the movement is an export within the definition of ‘export’ in this conservation measure.

(vi) Transhipment: The transfer of a catch in its harvested or processed form from a vessel to another vessel or means of transport, and, where such transfer takes place within the territory under the control of a Port State, for the purpose of effecting its removal from that State. For the avoidance of doubt, temporarily placing a catch on land or an artificial structure to facilitate such transfer shall not prevent the transfer from being a transshipment where the catch is not ‘landed' within the definition of ‘landing’ in this conservation measure.

2. Each Contracting Party shall take steps to identify the origin of Dissostichus spp. imported into or exported from its territories and to determine whether Dissostichus spp. harvested in the Convention Area that is imported into or exported from its territories was caught in a manner consistent with CCAMLR conservation measures.

3. Each Contracting Party shall require that each master or authorized representative flag vessels authorized to engage in harvesting of Dissostichus eleginoides and/or Dissostichus mawsoni complete a Dissostichus catch document (DCD) for the catch landed or transshipped on each occasion that it lands or transships Dissostichus spp.

4. Each Contracting Party shall require that each landing of Dissostichus spp. at its ports and each transshipment of Dissostichus spp. to its vessels be accompanied by a completed DCD. The landing of Dissostichus spp. without a catch document is prohibited.

5. Each Contracting Party shall, in accordance with their laws and regulations, require that their flag vessels which intend to harvest Dissostichus spp., including on the high seas outside the Convention Area, are provided with specific authorisation to do so. Each Contracting Party shall provide DCD forms to each of its flag vessels authorised to harvest Dissostichus spp. and only to those vessels.

6. A non-Contracting Party seeking to cooperate with CCAMLR by participating in this scheme may issue DCD forms, in accordance with the procedures specified in paragraphs 7 and 8, to any of its flag vessels that intend to harvest Dissostichus spp.

7. The DCD shall include the following information:

(i) The name, address, telephone and fax numbers of the issuing authority;

(ii) The name, home port, national registry number and call sign of the vessel and, if issued, its IMO/Lloyd's registration number;

(iii) The reference number of the license or permit, whichever is applicable, that is issued to the vessel;

(iv) The weight of each Dissostichus species landed or transhipped by product type, and (a) by CCAMLR statistical subarea or division if caught in the Convention Area; and/or (b) by FAO statistical area, subarea or division if caught outside the Convention Area;

(v) The dates within which the catch was taken;

(vi) The date and the port at which the catch was landed or the date and the vessel, its flag and national registry number, to which the catch was transshipped;

(vii) The name, address, telephone and fax numbers of the recipient(s) of the catch and the amount of each species and product type received.

8. Procedures for completing DCDs in respect of vessels are set forth in paragraphs A1 toA10 of Annex 10-05/A to this measure. The standard catch document is attached to the annex.

9. Each Contracting Party shall require that each shipment of Dissostichus spp. Imported into or exported from its territory be accompanied by the export-validated DCD(s) and, where appropriate, validated re-export document(s) that account for all the Dissostichus spp. contained in the shipment. The import, export or re-export of Dissostichus spp. without a catch document is prohibited.

10. An export-validated DCD issued in respect of a vessel is one that:

(i) Includes all relevant information and signatures provided in accordance with paragraphs A1 to A11 of Annex 10-05/A to this measure;

(ii) Includes a signed and stamped certification by a responsible official of the exporting State of the accuracy of the information contained in the document.

11. Each Contracting Party shall ensure that its customs authorities or other appropriate officials request and examine the documentation of each shipment of Dissostichus spp. imported into or exported from its territory to verify that it includes the export-validated DCD(s) and, where appropriate, validated re-export document(s) that account for all the Dissostichus spp. contained in the shipment. These officials may also examine the content of any shipment to verify the information contained in the catch document or documents.

12. If, as a result of an examination referred to in paragraph 11 above, a question arises regarding the information contained in a DCD or a re-export document, the exporting State whose national authority validated the document(s) and, as appropriate, the Flag State whose vessel completed the document are called on to cooperate with the importing State with a view to resolving such question.

13. Each Contracting Party shall promptly provide by the most rapid electronic means, copies to the CCAMLR Secretariat of all export-validated DCDs and, where relevant, validated re-export documents that it issued from and received into its territory and shall submit annually to the Secretariat a summary list of documents issued from or received into its territory in respect of transhipments, landings, exports, re-exports and imports. The list shall include: Document identification numbers; date of landing, export, reexport, import; weights landed, exported, re-exported or imported.

14. Each Contracting Party, and any non-Contracting Party that issues DCDs in respect of its flag vessels in accordance with paragraph 6, shall inform the CCAMLR Secretariat of the national authority or authorities (including names, addresses, phone and fax numbers and email addresses) responsible for issuing and validating DCDs.

15. Notwithstanding the above, any Contracting Party, or any non-Contracting Party participating in the CDS, may require additional verification of catch documents by Flag States by using, inter alia, VMS, in respect of catches ¹ taken on the high seas outside the Convention Area, when landed at, imported into or exported from its territory.

16. If, following an examination under paragraph 11, questions under paragraph 12 or requests for additional verification of documents under paragraph 15, it is determined, after consultation with the States concerned, that a catch document is invalid, the import, export or re-export of Dissostichus spp. being the subject of the document is prohibited.

17. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

18. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex 10-05/B.

¹ Excluding by-catches of Dissostichus spp. by trawlers fishing on the high seas outside the Convention Area. A by-catch shall be defined as no more than 5% of total catch of all species and no more than 50 tonnes for an entire fishing trip by a vessel.

Annex 10-05/A

A1. Each Flag State shall ensure that each Dissostichus catch document form that it issues includes a specific identification number consisting of:

(i) A four-digit number, consisting of the two-digit International Standards Organization (ISO) country code plus the last two digits of the year for which the form is issued;

(ii) A three-digit sequence number (beginning with 001) to denote the order in which catch document forms are issued. It shall also enter on each Dissostichus catch document form the number as appropriate of the license or permit issued to the vessel.

A2. The master of a vessel which has been issued a Dissostichus catch document form or forms shall adhere to the following procedures prior to each landing or transhipment of Dissostichus spp.:

(i) The master shall ensure that the information specified in paragraph 7 of this conservation measure is accurately recorded on the Dissostichus catch document form;

(ii) If a landing or transhipment includes catch of both Dissostichus spp., the master shall record on the Dissostichus catch document form the total amount of the catch landed or transhipped by weight of each species;

(iii) If a landing or transhipment includes catch of Dissostichus spp. taken from different statistical subareas and/or divisions, the master shall record on the Dissostichus catch document form the amount of the catch by weight of each species taken from each statistical subarea and/or division and indicating whether the catch was caught in an EEZ or on the high seas, as appropriate;

(iv) The master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraph 1 of Conservation Measure 10-04), the area fished and that the catch to be landed or transhipped as reported by its vessel is accurately recorded and taken in a manner consistent with its authorisation to fish, it shall convey a unique Flag State confirmation number to the vessel's master by the most rapid electronic means available. The Dissostichus catch document will receive a confirmation number from the Flag State, only when it is convinced that the information submitted by the vessel fully satisfies the provisions of this conservation measure.

A4. The master shall enter the Flag State confirmation number on the Dissostichus catch document form.

A5. The master of a vessel that has been issued a Dissostichus catch document form or forms shall adhere to the following procedures immediately after each landing or transhipment of Dissostichus spp.:

(i) In the case of a transhipment, the master shall confirm the transhipment obtaining the signature on the Dissostichus catch document of the master of the vessel to which the catch is being transferred;

(ii) In the case of a landing, the master or authorised representative shall confirm the landing by obtaining a signed and stamped certification on the Dissostichus catch document by a responsible official of the Port State of landing or free trade zone who is acting under the direction of either the customs or fisheries authority of the Port State and is competent with regard to the validation of Dissostichus catch documents;

(iii) In the case of a landing, the master or authorised representative shall also obtain the signature on the Dissostichus catch document of the individual that receives the catch at the port of landing or free trade zone;

(iv) In the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9. The master of a vessel to which catch has been transhipped (receiving vessel) shall adhere to the following procedures immediately after each landing of such catch in order to complete each Dissostichus catch document received from transhipping vessels:

(i) The master of the receiving vessel shall confirm the landing by obtaining a signed and stamped certification on the Dissostichus catch document by a responsible official of the Port State of landing or free trade zone who is acting under the direction of either the customs or fisheries authority of the Port State and is competent with regard to the validation of Dissostichus catch documents;

(ii) The master of the receiving vessel shall also obtain the signature on the Dissostichus catch document of the individual that receives the catch at the port of landing or free trade;

(iii) In the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) The exporter shall enter on each Dissostichus catch document the amount of each Dissostichus spp. reported on the document that is contained in the shipment;

(ii) The exporter shall enter on each Dissostichus catch document the name and address of the importer of the shipment and the point of import;

(iii) The exporter shall enter on each Dissostichus catch document the exporter's name and address, and shall sign the document;

(iv) The exporter shall obtain a signed and stamped validation of the Dissostichus catch document (including the attachments if provided) by a responsible official of the exporting State.

(v) The exporter shall indicate the transport details as appropriate: If by sea container(s) number(s) if appropriate, or vessel name, and Bill of lading number, date and place of issue; if by air Flight number, airway bill number, place and date of issue; If by other means (ground transportation) truck registration number and nationality, railway transport number, date and place of issue.

A12. In the case of re-export, the re-exporter shall adhere to the following procedures to obtain the necessary re-export validation of the Dissostichus catch document(s) that account for all the Dissostichus spp. contained in the shipment:

(i) The re-exporter shall supply details of the net weight of product of all species to be re-exported, together with the Dissostichus catch document number to which each species and product relates;

(ii) The re-exporter shall supply the name and address of the importer of the shipment, the point of import and the name and address of the exporter;

(iii) The re-exporter shall obtain a signed and stamped validation of the above details by the responsible official of the exporting State on the accuracy of information contained in the document(s);

(iv) The re-exporter shall indicate the transport details as appropriate: if by sea container(s) number(s) if appropriate, or vessel name, and bill of lading number, date and place of issue;

If by air flight number, airway bill number, place and date of issue;

If by other means (ground transportation) truck registration number and nationality, railway transport number, date and place of issue.

(v) The responsible official of the re-exporting State shall immediately transmit by the most rapid electronic means a copy of the re-export document to the Secretariat to be made available next working day to all Contracting Parties. The standard form for re-export is attached to this annex.

¹ Excluding by-catches of Dissostichus spp. by trawlers fishing on the high seas outside the Convention Area. A by-catch shall be defined as no more than 5% of total catch of all species and no more than 50 tonnes for an entire fishing trip by a vessel.

Dissostichus Catch Document V 1.5

Document Number Flag State Confirmation Number

Production Section

1. Issuing Authority of Document

Name Address Tel:

Fax:

2. Fishing Vessel Name Home Port & Registration Number Call Sign IMO/Lloyd's Number (if issued)

3. Licence Number (if issued) Fishing dates for catch under this document

4. From:

5. To:

6. Description of Fish (Landed/Transhipped)

7. Description of Fish Sold

Species Type Estimated

Weight to be

Landed (kg)

Area

Caught *

Verified

Weight

Landed (kg)

Net Weight

Sold (kg)

Recipient name, address, telephone, fax and signature.

Recipient Name:

Signature:

Address:

Tel:

Fax:

Species: TOP Dissostichus eleginoides, TOA Dissostichus mawsoni

Type: WHO Whole; HAG Headed and gutted; HAT Headed and tailed; FLT Fillet; HGT Headed, gutted, tailed; OTH Other (specify)

8. Landing/Transhipment Information: I certify that the above information is complete, true and correct. If any Dissostichus spp. was taken in the Convention Area, I certify that it was taken in a manner which is consistent with CCAMLR conservation measures:

Master of Fishing Vessel or Authorised Representative (print in block letters)

Signature and Date Landing/Transhipment

Port and Country/Area

Date of Landing/Transhipment

9. Certificate of Transhipments: I certify that the above information is complete, true and correct to the best of my knowledge. Master of Receiving Vessel Signature Vessel Name Call Sign IMO/Lloyds Number (if issued)

Transhipment within a Port Area: countersignature by Port Authority if appropriate.

Name Authority Signature Seal (Stamp)

10. Certificate of Landing: I certify that the above information is complete, true and correct to the best of my knowledge.

Name Authority Signature Address Tel., Port of Landing Date of Landing Seal (Stamp)

11. Export Section—Transport Details

If by sea/air: Container number (if more than one—attach list).

If no container: Vessel name; or

Flight number; and

Bill of lading/airway bill number; and

Date and place of issue

If ground transport: Truck registration number and nationality; or

Railway transport number: and

Date and place of issue

12. Exporter Declaration: I certify that the above information is complete, true and correct to the best of my knowledge.

Species Product

Type

Net Weight Name Address Signature

Export Licence (if issued)

13. Export Government Authority

Validation: I certify that the above information is complete, true and correct to the best of my knowledge.

Name/Title Signature Date Country of export seal (Stamp)

14. Import Section

Name of Importer Address

Point of Unlading: Address State/Province Country City

*Report FAO Statistical Area/Subarea/Division where catch was taken and indicate whether the catch was taken on the high seas or within an EEZ.

Dissostichus Re-Export Document V1.2

Re-Export Section Re-exporting Country:

1. Description of Fish

Species Type of Product Net Weight

Exported (kg)

Dissostichus Catch Document

Number Attached

Species: TOP Dissostichus eleginoides, TOA Dissostichus mawsoni

Type: WHO Whole; HAG Headed and gutted; HAT Headed and tailed; FLT

Fillet; HGT Headed, gutted, tailed; OTH

Other (specify)

Re-Export—Transport Details

If by sea/air: Container number (if more than one—attach list)

If no container: Vessel name; or

Flight number; and

Bill of lading/airway bill number; and

Date and place of issue

If ground transport: Truck registration number and nationality; or

Railway transport number: and

Date and place of issue

2. Re-Exporter Certification: I certify that the above information is complete, true and correct to the best of my knowledge and that the above product comes from product certified by the attached Dissostichus Catch Document(s).

Name Address Signature Date Export Licence (if issued)

3. Re-Export Government Authority Validation: I certify that the above information is complete, true, and correct to the best of my knowledge.

Name/Title Signature Date Seal (Stamp)

4. Import Section

Name of Importer Address

Point of Unlading: City State/Province Country

Annex 10-05/B

The Use of the CDS Fund

B1. The purpose of the CDS Fund (“the Fund”) is to enhance the capacity of the Commission in improving the effectiveness of the CDS and by this, and other means, to prevent, deter and eliminate IUU fishing in the Convention Area,

B2. The Fund will be operated according to the following provisions:

(i) Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat, although the participation of Members in these projects is not precluded. While individual Member projects may be considered, this shall not replace the normal responsibilities of Members of the Commission. The Fund shall not be used for routine Secretariat activities.

(iii) Proposals for special projects may be made by Members, by the Commission or the Scientific Committee and their subsidiary bodies, or by the Secretariat. Proposals shall be made to the Commission in writing and be accompanied by an explanation of the proposal and an itemized statement of estimated expenditure.

(iv) The Commission will, at each annual meeting, designate six Members to serve on a Review Panel to review proposals made intersessionally and to make recommendations to the Commission on whether to fund special projects or special needs. The Review Panel will operate by e-mail intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Conservation Measure 10-06 (2005)

Scheme to Promote Compliance by Contracting Party Vessels With CCAMLR Conservation Measures

Species all

Area all

Season all

Gear all

The Commission,

Convinced that illegal, unreported and unregulated (IUU) fishing compromises the objective of the Convention,

Aware that a number of vessels registered to Parties and non-Parties are engaged in activities which diminish the effectiveness of CCAMLR conservation measures, Recalling that Contracting Parties are required to cooperate in taking appropriate action to deter any activities which are not consistent with the objective of the Convention, Resolved to reinforce its integrated administrative and political measures aimed at eliminating IUU fishing in the Convention Area, hereby adopts the following conservation measure in accordance with Article IX.2(i) of the Convention:

1. At each annual meeting, the Commission will identify those Contracting Parties whose vessels have engaged in fishing activities in the Convention Area in a manner which has diminished the effectiveness of CCAMLR conservation measures in force, and shall establish a list of such vessels (CP-IUU Vessel List), in accordance with the procedures and criteria set out hereafter.

2. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

3. Where a Contracting Party obtains information that vessels flying the flag of another Contracting Party have engaged in activities set out in paragraph 5, it shall submit a report containing this information, within 30 days of having become aware of it, to the Executive Secretary and the Contracting Party concerned. Contracting Parties shall indicate that the information is provided for the purposes of considering whether to include the vessel concerned in the CP-IUU Vessel List under Conservation Measure 10-06. The Executive Secretary shall within one business day circulate the report to the other Contracting Parties and to non-Contracting Parties cooperating with the Commission by participating in the Catch Documentation Scheme for Dissostichus spp. (CDS), and invite them to communicate any information available to them in respect of the vessels referred to above, including their ownership, operators and their trade activities.

4. For the purposes of this conservation measure, the Contracting Parties are considered as having carried out fishing activities that have diminished the effectiveness of the conservation measures adopted by the Commission if:

(i) The Parties do not ensure compliance by their vessels with the conservation measures adopted by the Commission and in force, in respect of the fisheries in which they participate that are placed under the competence of CCAMLR;

(ii) Their vessels are repeatedly included in the CP-IUU Vessel List.

5. In order for a Contracting Party's vessel to be included in the CP-IUU Vessel List there must be evidence, gathered in accordance with paragraphs 2 and 3, that the vessel has:

(i) Engaged in fishing activities in the CCAMLR Convention Area without a licence issued in accordance with Conservation Measure 10-02, or in violation of the conditions under which such licence would have been issued in relation to authorised areas, species and time periods; or

(ii) Not recorded or not declared its catches made in the CCAMLR Convention Area in accordance with the reporting system applicable to the fisheries it engaged in, or made false declarations; or

(iii) Fished during closed fishing periods or in closed areas in contravention of CCAMLR conservation measures; or

(iv) Used prohibited gear in contravention of applicable CCAMLR conservation measures; or

(v) Transhipped or participated in joint fishing operations with, supported or re-supplied other vessels identified by CCAMLR as carrying out IUU fishing activities (i.e. vessels on the CP-IUU Vessel List or the NCP-IUU Vessel List established under Conservation Measure 10-07); or

(vi) Failed to provide, when required under Conservation Measure 10-05, a valid catch document for Dissostichus spp.; or

(vii) Engaged in fishing activities in a manner that undermines the attainment of the objectives of the Convention in waters adjacent to islands within the area to which the Convention applies over which the existence of State sovereignty is recognised by all Contracting Parties, in the terms of the statement made by the Chairman on 19 May 1980; or

(viii) Engaged in fishing activities contrary to any other CCAMLR conservation measures in a manner that undermines the attainment of the objectives of the Convention according to Article XXII of the Convention.

Draft CP-IUU Vessel List

6. The Executive Secretary shall, before 1 July of each year, draw up a draft list of Contracting Party vessels (the Draft CP-IUU Vessel List), listing all Contracting Party vessels that, on the basis of the information gathered in accordance with paragraphs 2 and 3, and any other information that the Executive Secretary might have obtained in relation thereto, and the criteria defined in paragraph 4, might be presumed to have engaged in any of the activities referred to in paragraph 5 during the period beginning 30 days before the start of the previous CCAMLR annual meeting. The Draft CP-IUU Vessel List shall be distributed immediately to the Contracting Parties concerned.

7. Contracting Parties whose vessels are included in the Draft CP-IUU Vessel List shall transmit their comments to the Executive Secretary before 1 September, including verifiable VMS data and other supporting information showing that the vessels listed have not engaged in the activities which led to their inclusion in the Draft CP-IUU Vessel List.

Provisional CP-IUU Vessel List

8. The Executive Secretary shall create a new list (“the Provisional CP-IUU Vessel List”) which shall comprise the Draft CP-IUU Vessel List and all information received pursuant to paragraph 7. Before 1 October, the Executive Secretary shall transmit the Provisional CP-IUU Vessel List, the CP-IUU Vessel List agreed at the previous CCAMLR annual meeting, and any evidence or documented information received since that meeting regarding vessels on the Provisional CP-IUU Vessel List and CP-IUU Vessel List to all Contracting Parties and non-Contracting Parties cooperating with the Commission by participating in the CDS. The Executive Secretary shall at the same time:

(i) Request non-Contracting Parties cooperating with the Commission by participating in the CDS that, to the extent possible in accordance with their applicable laws and regulations, they do not register or de-register vessels that have been placed on the Provisional CP-IUU Vessel List until such time as the Commission has had the opportunity to consider the List and has made its determination;

(ii) Invite non-Contracting Parties cooperating with the Commission by participating in the CDS to submit any evidence or documented information regarding vessels on the Provisional CP-IUU Vessel List and CP-IUU Vessel List, at the latest 30 days before the start of the next CCAMLR annual meeting. Where the incident occurs within the month preceding the next CCAMLR annual meeting, evidence or documented information should be provided as soon as possible.

9. Contracting Parties shall take all necessary measures, to the extent possible in accordance with their applicable laws and regulations, in order that:

(i) They do not register or de-register vessels that have been placed on the Provisional CP-IUU List until such time as the Commission has had the opportunity to examine the List and has made its determination;

(ii) If they do de-register a vessel on the Provisional CP-IUU Vessel List they inform, where possible, the Executive Secretary of the proposed new Flag State of the vessel, whereupon the Executive Secretary shall inform that State that the vessel is on the Provisional CP-IUU Vessel List and urge that State not to register the vessel.

Proposed and Final CP-IUU Vessel List

10. Contracting Parties shall submit to the Executive Secretary any additional information which might be relevant for the establishment of the CP-IUU Vessel List within 30 days of having become aware of such information and at the latest 30 days before the start of the CCAMLR annual meeting. A report containing this information shall be submitted in the format set out in paragraph 16, and Contracting Parties shall indicate that the information is provided for the purposes of considering whether to include the vessel concerned in the CP-IUU Vessel List under Conservation Measure 10-06. The Secretariat shall collate all information received and, where this has not been provided in relation to a vessel, attempt to obtain the information in paragraphs 16(i) to (viii).

11. The Executive Secretary shall circulate to Contracting Parties, at the latest 30 days before the start of the CCAMLR annual meeting, all evidence or documented information received under paragraphs 8 and 9, together with any other evidence or documented information received in terms of paragraphs 2 and 3.

12. At each CCAMLR annual meeting, the Standing Committee on Implementation and Compliance (SCIC) shall, by consensus:

(i) Adopt a Proposed CP-IUU Vessel List, following consideration of the Provisional CP-IUU Vessel List and information and evidence circulated under paragraph 10. The Proposed CP-IUU Vessel List shall be submitted to the Commission for approval;

(ii) Recommend to the Commission which, if any, vessels should be removed from the CP-IUU Vessel List adopted at the previous CCAMLR annual meeting, following consideration of that List and information and evidence circulated under paragraph 10.

13. SCIC shall include a vessel on the Proposed CP-IUU Vessel List only if one or more of the criteria in paragraph 5 have been satisfied.

14. SCIC shall recommend that the Commission should remove a vessel from the CP-IUU Vessel List if the Contracting Party proves that:

(i) The vessel did not take part in the activities described in paragraph 1 which led to the inclusion of the vessel in the CP-IUU Vessel List; or

(ii) It has taken effective action in response to the activities in question, including prosecution and imposition of sanctions of adequate severity; or

(iii) The vessel has changed ownership, including beneficial ownership if known to be distinct from the registered ownership, and that the new owner can establish the previous owner no longer has any legal, financial, or real interests in the vessel, or exercises control over it and that the new owner has not participated in IUU fishing; or

(iv) It has taken measures considered sufficient to ensure the granting of the right to the vessel to fly its flag will not result in IUU fishing.

15. In order to facilitate the work of SCIC and the Commission, the Executive Secretary shall prepare a paper for each CCAMLR annual meeting, summarising and annexing all the information, evidence and comments submitted in respect of each vessel to be considered.

16. The Draft CP-IUU Vessel List, Provisional CP-IUU Vessel List, Proposed CP-IUU Vessel List and the CP-IUU Vessel List shall contain the following details:

(i) Name of vessel and previous names, if any;

(ii) Flag of vessel and previous flags, if any;

(iii) Owner of vessel and previous owners, including beneficial owners, if any;

(iv) Operator of vessel and previous operators, if any;

(v) Call sign of vessel and previous call signs, if any;

(vi) Lloyds/IMO number;

(vii) Photographs of the vessel, where available;

(viii) Date vessel was first included on the CP-IUU Vessel List;

(ix) Summary of activities which justify inclusion of the vessel on the List, together with references to all relevant documents informing of and evidencing those activities.

17. On approval of the CP-IUU Vessel List, the Commission shall request Contracting Parties whose vessels appear thereon to take all necessary measures to address these activities, including if necessary, the withdrawal of the registration or of the fishing licences of these vessels, the nullification of the relevant catch documents and denial of further access to the CDS, and to inform the Commission of the measures taken in this respect.

18. Contracting Parties shall take all necessary measures, to the extent possible in accordance with their applicable laws and regulations, in order that:

(i) The issuance of a licence to vessels on the CP-IUU Vessel List to fish in the Convention Area is prohibited;

(ii) The issuance of a licence to vessels on the CP-IUU Vessel List to fish in waters under their fisheries jurisdiction is prohibited;

(iii) Fishing vessels, support vessels, mother-ships and cargo vessels flying their flag do not participate in any transhipment or joint fishing operations, support or resupply vessels on the CP-IUU Vessel List;

(iv) Vessels on the CP-IUU Vessel List that enter ports voluntarily are not authorized to land or tranship therein and are inspected in accordance with Conservation Measure 10-03 on so entering;

(v) The chartering of vessels on the CP-IUU Vessel List is prohibited;

(vi) Granting of their flag to vessels on the CP-IUU Vessel List is refused;

(vii) Imports, exports and re-exports of Dissostichus spp. from vessels on the CP-IUU Vessel List are prohibited;

(viii) ‘Export or Re-export Government Authority Validation’ is not certified when the shipment (of Dissostichus spp.) is declared to have been caught by any vessel on the CP-IUU Vessel List;

(ix) Importers, transporters and other sectors concerned are encouraged to refrain from dealing with and from transhipping of fish caught by vessels on the CP-IUU Vessel List;

(x) Any appropriate information which is suitably documented is collected and submitted to the Executive Secretary, to be forwarded to Contracting Parties, and non-Contracting Parties, entities or fishing entities cooperating with the Commission by participating in the CDS, with the aim of detecting, controlling and preventing the importation or exportation of, and other trade-related activities relating to, catches from vessels on the CP-IUU Vessel List intended to circumvent this conservation measure.

19. The Executive Secretary shall place the CP-IUU Vessel List approved by the Commission on the public section of the CCAMLR website. Furthermore, the Executive Secretary shall communicate the CP-IUU Vessel List to the FAO and appropriate regional fisheries organisations to enhance cooperation between CCAMLR and these organisations for the purposes of preventing, deterring and eliminating IUU fishing.

20. The Executive Secretary shall circulate to non-Contracting Parties cooperating with the Commission by participating in the CDS the CP-IUU Vessel List, together with the request that, to the extent possible in accordance with their applicable laws and regulations, they do not register vessels that have been placed on the List unless they are removed from the List by the Commission.

21. If Contracting Parties obtain new or changed information for vessels on the CP-IUU Vessel List in relation to the details in paragraphs 16(i) to (vii), they shall notify the Executive Secretary who shall place a notification on the secure section of the CCAMLR website and advise all Contracting Parties of the notification. If there are no comments on the information within seven (7) days, the Executive Secretary will revise the CP-IUU Vessel List.

22. Without prejudice to their rights to take proper action consistent with international law, Contracting Parties should not take any trade measures or other sanctions which are inconsistent with their international obligations against vessels using as the basis for the action the fact that the vessel or vessels have been included in the Draft CP-IUU Vessel List drawn up by the Executive Secretary, pursuant to paragraph 6.

23. The Chair of the Commission shall request the Contracting Parties identified pursuant to paragraph 1 to take all necessary measures to avoid diminishing the effectiveness of CCAMLR conservation measures resulting from their vessels' activities, and to advise the Commission of actions taken in that regard.

24. The Commission shall review, at subsequent CCAMLR annual meetings, as appropriate, action taken by those Contracting Parties to which requests have been made pursuant to paragraph 23, and identify those which have not rectified their activities.

25. The Commission shall decide appropriate measures to be taken in respect to Dissostichus spp. so as to address these issues with those identified Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 10-07 (2005)

Scheme to Promote Compliance by Non-Contracting Party Vessels With CCAMLR Conservation Measures

Species all

Area all

Season all

Gear all

The Commission, convinced that illegal, unreported and unregulated (IUU) fishing compromises the objective of the Convention,

Aware that a significant number of vessels registered to non-Contracting Parties are engaged in activities which diminish the effectiveness of CCAMLR conservation measures, Recalling that Contracting Parties are required to cooperate in taking appropriate action to deter any activities which are not consistent with the objective of the Convention, Resolved to reinforce its integrated administrative and political measures aimed at eliminating IUU fishing in the Convention Area, hereby adopts the following conservation measure in accordance with Article IX.2(i) of the Convention:

1. The Contracting Parties request non-Contracting Parties to cooperate fully with the Commission with a view to ensuring that the effectiveness of CCAMLR conservation measures is not undermined.

2. At each annual meeting the Commission shall identify those non-Contracting Parties whose vessels are engaged in IUU fishing activities in the Convention Area that threaten to undermine the effectiveness of CCAMLR conservation measures, and shall establish a list of such vessels (NCP-IUU Vessel List), in accordance with the procedures and criteria set out hereafter.

3. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

4. A non-Contracting Party vessel which has been sighted engaging in fishing activities in the Convention Area or which has been denied port access, landing or transhipment in accordance with Conservation Measure 10-03 is presumed to be undermining the effectiveness of CCAMLR conservation measures. In the case of any transshipment activities involving a sighted non-Contracting Party vessel inside or outside the Convention Area, the presumption of undermining the effectiveness of CCAMLR conservation measures applies to any other non-Contracting Party vessel which has engaged in such activities with that vessel.

5. When a non-Contracting Party vessel referred to in paragraph 4 enters a port of any Contracting Party, it shall be inspected by authorised Contracting Party officials in accordance with Conservation Measure 10-03 and shall not be allowed to land or tranship any fish species subject to CCAMLR conservation measures it might be holding on board unless the vessel establishes that the fish were caught in compliance with all relevant CCAMLR conservation measures and requirements under this Convention.

6. A Contracting Party which sights a non-Contracting Party vessel engaging in fishing activities in the Convention Area or denies a non-Contracting Party port access, landing or transhipment under paragraph 5 shall attempt to inform the vessel that it is presumed to be undermining the effectiveness of CCAMLR conservation measures, and that this information will be distributed to the Executive Secretary, all Contracting Parties and the Flag State of the vessel.

7. Information regarding such sightings or denial of port access, landings or transhipments, and the result of all inspections conducted in the ports of Contracting Parties, and any subsequent action shall be transmitted within one business day to the Commission in accordance with Article XXII of the Convention. The Executive Secretary shall transmit this information to all Contracting Parties, within one business day of receiving it, and to the Flag State of the vessel concerned as soon as possible and to appropriate regional fisheries organisations. At this time, the Executive Secretary shall, in consultation with the Chair of the Commission, request the Flag State concerned that, where appropriate, measures be taken in accordance with its applicable laws and regulations to ensure that the vessel desists from any activities that undermine the effectiveness of CCAMLR conservation measures, and that the Flag State report back to CCAMLR on the results of such enquiries and/or on the measures it has taken in respect of the vessel. The other Contracting Parties and non-Contracting Parties cooperating with the Commission by participating in the Catch Documentation Scheme for Dissostichus spp. (CDS) shall be invited to communicate any information available to them in respect of the vessels referred to above, including their ownership, operators and their trade activities.

8. Where a Contracting Party obtains information that a non-Contracting Party vessel has engaged in activities set out in paragraph 9, it shall submit a report containing this information, within 30 days of having become aware of it, to the Executive Secretary (including where such information has already been transmitted under paragraph 7). Contracting Parties shall indicate that the information is provided for the purposes of considering whether to include the vessel concerned in the NCP-IUU Vessel List under Conservation Measure 10-07. In addition, the Contracting Party may also submit the report directly to the non-Contracting Party concerned. The Executive Secretary shall promptly forward the information to the non-Contracting Party concerned, indicating that it has been provided for the purposes of considering whether to include the vessel concerned in the NCP-IUU Vessel List under Conservation Measure 10-07. The Executive Secretary shall request that the Flag State take action to prevent the vessel undertaking any activities that undermine the effectiveness of CCAMLR conservation measures and that the Flag State report back to CCAMLR on the measures it has taken in respect of the vessel concerned. The Executive Secretary shall circulate the information and any report from the Flag State to all other Contracting Parties as soon as possible.

9. In order for a non-Contracting Party's vessel to be included in the NCP-IUU Vessel List, there must be evidence, gathered in accordance with paragraphs 3 and 8, that the vessel has:

(i) Been sighted engaging in fishing activities in the CCAMLR Convention Area; or

(ii) Been denied port access, landing or transhipment in accordance with Conservation Measure 10-03; or

(iii) Transhipped or participated in joint fishing operations with, supported or resupplied other vessels identified by CCAMLR as carrying out IUU fishing activities (i.e. vessels on the NCP-IUU Vessel List or the CP-IUU Vessel List established under Conservation Measure 10-06); or

(iv) Failed to provide, when required under Conservation Measure 10-05, a valid catch document for Dissostichus spp.; or

(v) Engaged in fishing activities in a manner that undermines the attainment of the objectives of the Convention in waters adjacent to islands within the area to which the Convention applies over which the existence of State sovereignty is recognised by all Contracting Parties, in the terms of the statement made by the Chairman on 19 May 1980; or

(vi) Engaged in fishing activities contrary to any other CCAMLR conservation measures in a manner that undermines the attainment of the objectives of the Convention according to Article XXII of the Convention.

Draft NCP-IUU Vessel List

10. The Executive Secretary shall, before 1 July of each year, draw up a draft list (“the Draft NCP-IUU Vessel List”), listing all non-Contracting Party vessels that, on the basis of the information gathered in accordance with paragraphs 3 and 8 and any other information that the Executive Secretary might have obtained in relation thereto, might be presumed to have engaged in any of the activities referred to in paragraph 9 during the period beginning 30 days before the start of the previous CCAMLR annual meeting. The Draft NCP-IUU Vessel List shall be distributed immediately to the non-Contracting Parties concerned and to all Contracting Parties.

11. The Executive Secretary shall invite non-Contracting Parties whose vessels are included in the Draft NCP-IUU Vessel List to transmit their comments to the Executive Secretary before 1 September, including verifiable VMS data and other supporting information showing that the vessels listed have not engaged in the activities which led to their inclusion in the Draft NCP-IUU Vessel List.

Provisional NCP-IUU Vessel List

12. The Executive Secretary shall create a new list (‘the Provisional NCP-IUU Vessel List’) which shall comprise the Draft NCP-IUU Vessel List and all information received pursuant to paragraph 11. Before 1 October, the Executive Secretary shall transmit the Provisional NCP-IUU Vessel List, the NCP-IUU Vessel List agreed at the previous CCAMLR annual meeting, and any evidence or documented information received since that meeting regarding vessels on the Provisional NCP-IUU Vessel List or the NCP-IUU Vessel List to all Contracting Parties and non-Contracting Parties cooperating with the Commission by participating in the CDS. The Executive Secretary shall at the same time:

(i) Request non-Contracting Parties cooperating with the Commission by participating in the CDS that, to the extent possible in accordance with their applicable laws and regulations, they do not register or de-register vessels that have been placed on the List until such time as the Commission has had the opportunity to consider the List and has made its determination;

(ii) Invite non-Contracting Parties cooperating with the Commission by participating in the CDS to submit any evidence or documented information regarding vessels on the Provisional NCP-IUU Vessel List and NCP-IUU Vessel List, at the latest 30 days before the start of the next CCAMLR annual meeting. Where the incident occurs within the month preceding the next CCAMLR annual meeting, evidence or documented information should be provided as soon as possible.

(iii) Transmit the Provisional NCP-IUU Vessel List and any evidence or documented information received regarding vessels on that List to all non-Contracting Parties whose vessels are included in the List and who are not non-Contracting Parties cooperating with the Commission by participating in the CDS.

13. Contracting Parties shall take all necessary measures, to the extent possible in accordance with their applicable laws and regulations, in order that:

(i) They do not register vessels that have been placed on the Provisional NCP-IUU Vessel List until such time as the Commission has had the opportunity to examine the List and has made its determination;

(ii) If they do de-register a vessel on the Provisional NCP-IUU Vessel List they inform, where possible, the Executive Secretary of the proposed new Flag State of the vessel, whereupon the Executive Secretary shall inform that State that the vessel is on the Provisional NCP-IUU Vessel List and urge that State not to register the vessel.

Proposed and Final NCP-IUU Vessel List

14. Contracting Parties shall submit to the Executive Secretary any additional information which might be relevant for the establishment of the NCP-IUU Vessel List within 30 days of having become aware of such information and at the latest 30 days before the start of the CCAMLR annual meeting. A report containing this information shall be submitted in the format set out in paragraph 20, and Contracting Parties shall indicate that the information is provided for the purposes of considering whether to include the vessel concerned in the NCP-IUU Vessel List under Conservation Measure 10-07. The Executive Secretary shall collate all information received and, where this has not been provided in relation to a vessel, attempt to obtain the information in paragraphs 20(i) to (vii).

15. The Executive Secretary shall circulate to Contracting Parties, at the latest 30 days before the start of the CCAMLR annual meeting, all evidence or documented information received under paragraphs 12 and 13, together with any other evidence or documented information received in terms of paragraphs 3 and 8.

16. At each CCAMLR annual meeting, the Standing Committee on Implementation and Compliance (SCIC) shall, by consensus:

(i) Adopt a Proposed NCP-IUU Vessel List, following consideration of The Provisional NCP-IUU Vessel List and information and evidence circulated under Paragraph14. The Proposed NCP-IUU Vessel List shall be submitted to the Commission for approval;

(ii) Recommend to the Commission which, if any, vessels should be removed from the NCP-IUU Vessel List adopted at the previous CCAMLR annual meeting, following consideration of that List and information and evidence circulated under paragraph 14.

17. SCIC shall include a vessel on the Proposed NCP-IUU Vessel List only if one or more of the criteria in paragraph 9 have been satisfied.

18. SCIC shall recommend that the Commission should remove a vessel from the NCP-IUU Vessel List if the non-Contracting Party proves that:

(i) The vessel did not take part in the activities described in paragraph 9 which led to the inclusion of the vessel in the NCP-IUU Vessel List; or

(ii) It has taken effective action in response to the activities in question, including prosecution and imposition of sanctions of adequate severity; or

(iii) The vessel has changed ownership including beneficial ownership if known to be distinct from the registered ownership and that the new owner can establish the previous owner no longer has any legal, financial, or real interests in the vessel, or exercises control over it and that the new owner has not participated in IUU fishing; or

(iv) It has taken measures considered sufficient to ensure the granting of the right to the vessel to fly its flag will not result in IUU fishing.

19. In order to facilitate the work of SCIC and the Commission, the Executive Secretary shall prepare a paper for each CCAMLR annual meeting, summarising and annexing all the information, evidence and comments submitted in respect of each vessel to be considered.

20. The Draft NCP-IUU Vessel List, Provisional NCP-IUU Vessel List, Proposed NCPIUU Vessel List and the NCP-IUU Vessel List shall contain the following details:

(i) Name of vessel and previous names, if any;

(ii) Flag of vessel and previous flags, if any;

(iii) Owner of vessel and previous owners including beneficial owners, if any;

(iv) Operator of vessel and previous operators, if any;

(v) Call sign of vessel and previous call signs, if any;

(vi) Lloyds/IMO number;

(vii) Photographs of the vessel, where available;

(viii) Date vessel was first included on the NCP-IUU Vessel List;

(ix) Summary of activities which justify inclusion of the vessel in the List, together with references to all relevant documents informing of and evidencing those activities.

21. On approval of the NCP-IUU Vessel List, the Commission shall request non-Contracting Parties whose vessels appear thereon to take all necessary measures to address these activities, including if necessary, the withdrawal of the registration or of the fishing licences of these vessels, the nullification of the relevant catch documents and denial of further access to the CDS, and to inform the Commission of the measures taken in this respect.

22. Contracting Parties shall take all necessary measures, to the extent possible in accordance with their applicable laws and regulations, in order that:

(i) The issuance of a licence to vessels on the NCP-IUU Vessel List to fish in waters under their fisheries jurisdiction is prohibited;

(ii) Fishing vessels, support vessels, mother-ships and cargo vessels flying their flag do not participate in any transhipment or joint fishing operations, support or resupply vessels on the NCP-IUU Vessel List;

(iii) Vessels on the NCP-IUU Vessel List that enter ports voluntarily are not authorized to land or tranship therein and are inspected in accordance with Conservation Measure 10-03 on so entering;

(iv) The chartering of vessels on the NCP-IUU Vessel List is prohibited;

(v) Granting of their flag to vessels on the NCP-IUU Vessel List is refused;

(vi) Imports, exports and re-exports of Dissostichus spp. from vessels on the NCP-IUU Vessel List are prohibited;

(vii) ‘Export or Re-export Government Authority Validation’ is not certified when the shipment (of Dissostichus spp.) is declared to have been caught by any vessel on the NCP-IUU Vessel List;

(viii) Importers, transporters and other sectors concerned are encouraged to refrain from dealing with and from transhipping of fish caught by vessels on the NCP-IUU Vessel List;

(ix) Any appropriate information which is suitably documented is collected and submitted to the Executive Secretary, to be forwarded to Contracting Parties and non-Contracting Parties, entities or fishing entities cooperating with the Commission by participating in the CDS, with the aim of detecting, controlling and preventing the importation or exportation of, and other trade-related activities relating to, catches from vessels on the NCP-IUU Vessel List intended to circumvent this conservation measure.

23. The Executive Secretary shall place the NCP-IUU Vessel List approved by the Commission on the public section of the CCAMLR website. Furthermore, the Executive Secretary shall communicate the NCP-IUU Vessel List to the FAO and appropriate regional fisheries organisations to enhance cooperation between CCAMLR and these organisations for the purposes of preventing, deterring and eliminating IUU fishing.

24. The Executive Secretary shall circulate to non-Contracting Parties cooperating with the Commission by participating in the CDS the NCP-IUU Vessel List, together with the request that, to the extent possible in accordance with their applicable laws and regulations, they do not register vessels that have been placed on the List unless they are removed from the List by the Commission.

25. If Contracting Parties obtain new or changed information for vessels on the NCP-IUU Vessel List in relation to the details in paragraphs 20(i) to (vii), they shall notify the Executive Secretary who shall place a notification on the secure section of the CCAMLR website and advise all Contracting Parties and the non-Contracting Party concerned of the notification. If there are no comments on the information within seven (7) days, the Executive Secretary will revise the NCP-IUU Vessel List.

26. Without prejudice to their rights to take proper action consistent with international law, Contracting Parties should not take any trade measures or other sanctions which are inconsistent with their international obligations against vessels using as the basis for the action the fact that the vessel or vessels have been included in the Draft NCP-IUU Vessel List drawn up by the Executive Secretary, pursuant to paragraph 10.

27. The Chair of the Commission shall request the non-Contracting Parties identified pursuant to paragraph 1 to take all necessary measures to avoid diminishing the effectiveness of CCAMLR conservation measures resulting from their vessels' activities, including if necessary withdrawal of a vessel's registration or fishing licence, nullification of the relevant CDS documents and denial of further access to the CDS, and to advise the Commission of actions taken in that regard.

28. Contracting Parties shall jointly and/or individually request non-Contracting Parties identified pursuant to paragraph 2 to cooperate fully with the Commission in order to avoid diminishing the effectiveness of conservation measures adopted by the Commission.

29. The Commission shall review, at subsequent CCAMLR annual meetings, as appropriate, action taken by those non-Contracting Parties to which requests have been made pursuant to paragraph 26, and identify those which have not rectified their activities.

30. The Commission shall decide appropriate measures to be taken in respect to Dissostichus spp. so as to address these issues with those identified non-Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 21-02 (2005) 1 2

Exploratory Fisheries

Species all

Area all

Season all

Gear all

The Commission,

Recognising that in the past, some Antarctic fisheries had been initiated and subsequently expanded in the Convention Area before sufficient information was available upon which to base management advice,

Agreeing that exploratory fishing should not be allowed to expand faster than the acquisition of information necessary to ensure that the fishery can and will be conducted in accordance with the principles set forth in Article II, hereby adopts the following conservation measure in accordance with Article IX of the Convention:

1. For the purposes of this conservation measure, exploratory fisheries are defined as follows:

(i) An exploratory fishery shall be defined as a fishery that was previously classified as a “new fishery”, as defined by Conservation Measure 21-01;

(ii) An exploratory fishery shall continue to be classified as such until sufficient information is available:

(a) To evaluate the distribution, abundance, and demography of the target species, leading to an estimate of the fishery's potential yield;

(b) To review the fishery's potential impacts on dependent and related species;

(c) To allow the Scientific Committee to formulate and provide advice to the Commission on appropriate harvest catch levels, as well as effort levels and fishing gear, where appropriate.

2. To ensure that adequate information is made available to the Scientific Committee for evaluation, during the period when a fishery is classified as exploratory, the Scientific Committee shall develop (and update annually as appropriate) a Data Collection Plan, which should include research proposals, as appropriate. This shall identify the data needed and describe any operational research actions necessary to obtain the relevant data from the exploratory fishery to enable an assessment of the stock to be made.

3. The Data Collection Plan shall include, where appropriate:

(i) A description of the catch, effort, and related biological, ecological, and environmental data required to undertake the evaluations described in paragraph 1(ii), and the date by which such data are to be reported annually to CCAMLR;

(ii) A plan for directing fishing effort during the exploratory phase to permit the acquisition of relevant data to evaluate the fishery potential and the ecological relationships among harvested, dependent and related populations and the likelihood of adverse impacts;

(iii) Where appropriate, a plan for the acquisition of any other research data by fishing vessels, including activities that may require the cooperative activities of scientific observers and the vessel, as may be required for the Scientific Committee to evaluate the fishery potential and the ecological relationships among harvested, dependent and related populations and the likelihood of adverse impacts;

(iv) An evaluation of the time-scales involved in determining the responses of harvested, dependent and related populations to fishing activities.

4. The Commission shall annually determine a precautionary catch limit at a level not substantially above that necessary to obtain the information specified in the Data Collection Plan and required to undertake the evaluations described in paragraph 1(ii).

5. Any Member proposing to participate in an exploratory fishery shall:

(i) Notify its intention to the Commission not less than three months in advance of the next regular meeting of the Commission. This notification shall include the information prescribed in paragraph 4 of Conservation Measure 10-02 in respect of vessels proposing to participate in the fishery, with the exception that the notification shall not be required to specify the information referred to in subparagraph 4(ii) of Conservation Measure 10-02. Members shall, to the extent practicable, also provide in their notification the additional information detailed in paragraph 5 of Conservation Measure 10-02 in respect to each fishing vessel notified. Members are not hereby exempted from their obligations under Conservation Measure 10-02 to submit any necessary updates to vessel and licence details within the deadline established therein as of issuance of the licence to the vessel concerned;

(ii) Prepare and submit to CCAMLR by a specified date a Fishery Operations Plan for the fishing season, for review by the Scientific Committee and the Commission. The Fishery Operations Plan shall include as much of the following information as the Member is able to provide, so as to assist the Scientific Committee in its preparation of the Data Collection Plan:

(a) The nature of the exploratory fishery, including target species, methods of fishing, proposed region and maximum catch levels proposed for the forthcoming season;

(b) Biological information on the target species from comprehensive research/survey cruises, such as distribution, abundance, demographic data, and information on stock identity;

(c) Details of dependent and related species and the likelihood of their being affected by the proposed fishery;

(d) Information from other fisheries in the region or similar fisheries elsewhere that may assist in the evaluation of potential yield;

(iii) Provide a commitment, in its proposal, to implement any Data Collection Plan developed by the Scientific Committee for the fishery.

6. On the basis of the information submitted in accordance with paragraph 5, and taking into account the advice and evaluation provided by the Scientific Committee and the Standing Committee on Implementation and Compliance (SCIC), the Commission shall annually consider adoption of relevant conservation measures for each exploratory fishery.

7. The Commission shall not consider a notification by a Member unless the information required by paragraph 5 has been submitted by the due date.

8. Notwithstanding paragraph 7, Members shall be entitled under Conservation Measure 10-02 to authorise participation in an exploratory fishery a vessel other than that identified by the Commission in accordance with paragraph 5 if the notified vessel is prevented from participation due to legitimate operational or force majeure reasons. In such circumstances the Member concerned shall immediately inform the Secretariat thereof providing:

(i) Full details of the intended replacement vessel(s) as prescribed in subparagraph 5(i);

(ii) A comprehensive account of the reasons justifying the replacement and any relevant supporting evidence or references.

The Secretariat shall immediately circulate this information to all Members.

9. Members whose vessels participate in exploratory fisheries in accordance with paragraphs 5 and/or 8 shall:

(i) Ensure that their vessels are equipped and configured so that they can comply with all relevant conservation measures;

(ii) Ensure that each vessel carries a CCAMLR-designated scientific observer to collect data in accordance with the Data Collection Plan, and to assist in collecting biological and other relevant data;

(iii) Annually (by the specified date) submit to CCAMLR the data specified by the Data Collection Plan;

(iv) Be prohibited from continuing participation in the relevant exploratory fishing if the data specified in the Data Collection Plan have not been submitted to CCAMLR for the most recent season in which fishing occurred, until the relevant data have been submitted to CCAMLR and the Scientific Committee has been allowed an opportunity to review the data.

10. A vessel on either of the IUU Vessel Lists established under Conservation Measures 10-06 and 10-07 shall not be permitted to participate in exploratory fisheries.

11. Notifications for exploratory fisheries pursuant to the provisions above shall be subject to an administrative cost-recovery scheme and shall therefore be accompanied by a payment per vessel, the amount and refundable component of which shall be decided by the Commission, as well as the conditions and modalities according to which such payment shall be made.

¹ Except for waters adjacent to the Kerguelen and Crozet Islands.

² Except for waters adjacent to the Prince Edward Islands.

Conservation Measure 23-01 (2005)

Five-day Catch and Effort Reporting System

Species all

Area various

Season all

Gear various

This conservation measure is adopted in accordance with Conservation Measure 31-01 where appropriate:

1. For the purposes of this Catch and Effort Reporting System the calendar month shall be divided into six reporting periods, viz: day 1 to day 5, day 6 to day 10, day 11 to day 15, day 16 to day 20, day 21 to day 25 and day 26 to the last day of the month. These reporting periods are hereinafter referred to as periods A, B, C, D, E and F.

2. At the end of each reporting period, each Contracting Party shall obtain from each of its vessels its total catch of all species, including by-catch species, and total days and hours fished for that period and shall, by facsimile or email, transmit the aggregated catch and days and hours fished for its vessels. The catch and effort data shall reach the Executive Secretary not later than two (2) working days after the end of the reporting period. In the case of longline fisheries, the number of hooks shall also be reported. In the case of pot fisheries, the number of pots shall also be reported.

3. A report must be submitted by every Contracting Party taking part in the fishery for each reporting period for the duration of the fishery even if no catches are taken. A Contracting Party may authorise each of its vessels to report directly to the Secretariat.

4. Such reports shall specify the month and reporting period (A, B, C, D, E or F) to which each report refers.

5. Immediately after the deadline has passed for receipt of the reports for each period, the Executive Secretary shall notify all Contracting Parties engaged in fishing activities in the area, of the total catch taken during the reporting period, the total aggregate catch for the season to date together with an estimate of the date upon which the total allowable catch is likely to be reached for that season. In the case of exploratory fisheries, the Executive Secretary shall also notify the total aggregate catch for the season to date in each small-scale research unit (SSRU) together with an estimate of the date upon which the total allowable catch is likely to be reached in each SSRU for that season. Estimates shall be based on a projection forward of the trend in daily catch rates, obtained using linear regression techniques from a number of the most recent catch reports.

6. At the end of every six reporting periods, the Executive Secretary shall inform all Contracting Parties of the total catch taken during the six most recent reporting periods, the total aggregate catch for the season to date together with an estimate of the date upon which the total allowable catch is likely to be reached for that season.

7. If the estimated date of completion of the total allowable catch is within five days of the date on which the Secretariat received the report of the catches, the Executive Secretary shall inform all Contracting Parties that the fishery will close on that estimated day or on the day on which the report was received, whichever is the later. In the case of exploratory fisheries, if the estimated date of completion of the catch in any SSRU is within five days of the day on which the Secretariat received the report of catches, the Executive Secretary shall additionally inform all Contracting Parties, and their relevant fishing vessels if so authorised, that fishing in that SSRU will be prohibited from that calculated day, or on the day on which the report was received, whichever is the later.

8. Should a Contracting Party, or where a vessel is authorised to report directly to the Secretariat, the vessel, fail to transmit a report to the Executive Secretary in the appropriate form by the deadline specified in paragraph 2, the Executive Secretary shall issue a reminder to the Contracting Party. If at the end of a further two five-day periods, or, in the case of exploratory fisheries, a further one five-day period, those data have still not been provided, the Executive Secretary shall notify all Contracting Parties of the closure of the fishery to the vessel which has failed to supply the data as required and the Contracting Party concerned shall require the vessel to cease fishing. If the Executive Secretary is notified by the Contracting Party that the failure of the vessel to report is due to technical difficulties, the vessel may resume fishing once the report or explanation concerning the failure has been submitted.

Conservation Measure 23-06 (2005)

Data Reporting System for Krill Fisheries

Species krill

Area all

Season all

Gear all

1. This conservation measure is invoked by the conservation measures to which it is attached.

2. Catches shall be reported in accordance with the monthly catch and effort reporting system set out in Conservation Measure 23-03 according to the statistical areas, subareas, divisions or any other area or unit specified with catch limits in Conservation Measures 51-01, 51-02 and 51-03.

3. At the end of each fishing season each Contracting Party shall obtain from each of its vessels the haul-by-haul data required to complete the CCAMLR fine-scale catch and effort data form (trawl fisheries Form C1). It shall transmit those data in the specified format to the Executive Secretary not later than 1 April of the following year.

Conservation Measure 24-01 (2005) 1 2

The Application of Conservation Measures to Scientific Research

Species all

Area all

Season all

Gear all

This conservation measure governs the application of conservation measures to scientific research and is adopted in accordance with Article IX of the Convention.

1. General application:

(a) Catches taken by any vessel for research purposes will be considered as part of any catch limits in force for each species taken unless the catch limit in an area ³ is set at zero.

(b) In the event of research being undertaken in an area ³ with a zero catch limit, then the catches adopted under paragraphs 2 or 3 below shall be considered to be the catch limit for the season in that area. When such an area sits within a group of areas to which an overall catch limit applies, that overall catch limit shall not be exceeded including any catch taken for research purposes.

2. Application to Members taking less than 50 tonnes of finfish in a season including no more than the amounts specified for finfish taxa in Annex 24-01/B and less than 0.1% of a given catch limit for non-finfish taxa indicated in Annex 24-01/B:

(a) Any Member planning to use a vessel or vessels for research purposes when the estimated seasonal catch is as above shall notify the Secretariat of the Commission which in turn will notify all Members immediately, according to the format provided in Annex 24-01/A.

(b) Vessels to which the provisions of paragraph 2(a) above apply, shall be exempt from conservation measures relating to mesh size regulations, prohibition of types of gear, closed areas, fishing seasons and size limits, and reporting system requirements other than those specified in paragraph 4 below.

3. Application to Members taking more than 50 tonnes of finfish or more than the amounts specified for finfish taxa in Annex 24-01/B or more than 0.1% of a given catch limit for non-finfish taxa indicated in Annex 24-01/B:

(a) Any Member planning to use any type of vessel or vessels to conduct fishing for research purposes when the estimated seasonal catch is as above, shall notify the Commission and provide the opportunity for other Members to review and comment on its research plan. The plan shall be provided to the Secretariat for distribution to Members at least six months in advance of the planned starting date for the research. In the event of any request for a review of such plan being lodged within two months of its circulation, the Executive Secretary shall notify all Members and submit the plan to the Scientific Committee for review. Based on the submitted research plan and any advice provided by the appropriate working group, the Scientific Committee will provide advice to the Commission where the review process will be concluded. Until the review process is complete the planned fishing for research purposes shall not proceed.

(b) Research plans shall be reported in accordance with the standardised guidelines and formats adopted by the Scientific Committee, given in Annex 24-01/A.

4. Reporting requirements for these research activities are:

(a) The CCAMLR within-season five-day reporting system shall apply.

(b) All research catches shall be reported to CCAMLR as part of the annual STATLANT returns.

(c) A summary of the results of any research subject to the above provisions shall be provided to the Secretariat within 180 days of the completion of the research fishing. A full report shall be provided within 12 months.

(d) Catch, effort and biological data resulting from research fishing should be reported to the Secretariat according to the haul-by-haul reporting format for research vessels (C4).

¹ Except for waters adjacent to the Kerguelen and Crozet Islands

² Except for waters adjacent to the Prince Edward Islands

³ Any management area including subarea, division, management area or SSRU, whichever is designated as a zero catch limit.

Conservation Measure 24-02 (2005)

Longline Weighting for Seabird Conservation

Species seabirds

Area selected

Season all

Gear longline

In respect of fisheries in Statistical Subareas 48.6, 88.1 and 88.2 and Statistical Divisions 58.4.1, 58.4.2, 58.4.3a, 58.4.3b and 58.5.2, paragraph 4 of Conservation Measure 25-02 shall not apply only where a vessel can demonstrate its ability to fully comply with one of the following protocols.

Protocol A (for vessels monitoring longline sink rate with Time-Depth Recorders (TDRs) and using longlines to which weights are manually attached):

A1. Prior to entry into force of the licence for this fishery and once per fishing season prior to entering the Convention Area, the vessel shall, under observation by a scientific observer:

(i) Set a minimum of two longlines with a minimum of four TDRs on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area.

(ii) Randomise TDR placement on the longline, noting that all tests should be applied midway between weights;

(iii) Calculate an individual sink rate for each TDR when returned to the vessel, where:

(a) The sink rate shall be measured as an average of the time taken for the longline to sink from the surface (0 m) to 15 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

A2. During fishing, for a vessel to be allowed to maintain the exemption to night-time setting requirements (paragraph 4 of Conservation Measure 25-02), regular longline sink monitoring shall be undertaken by the CCAMLR scientific observer. The vessel shall cooperate with the CCAMLR observer who shall:

(i) Attempt to conduct a TDR test on one longline set every twenty-four hour period;

(ii) Every seven days place at least four TDRs on a single longline to determine any sink rate variation along the longline;

(iii) Randomise TDR placement on the longline, noting that all tests should be applied halfway between weights;

(iv) Calculate an individual longline sink rate for each TDR when returned to the vessel;

(v) Measure the longline sink rate as an average of the time taken for the longline to sink from the surface (0 m) to 15 m.

A3. The vessel shall:

(i) Ensure that all longlines are weighted to achieve a minimum longline sink rate of 0.3 m/s at all times whilst operating under this exemption;

(ii) Report daily to its national agency on the achievement of this target whilst operating under this exemption;

(iii) Ensure that data collected from longline sink rate tests prior to entering the Convention Area and longline sink rate monitoring during fishing are recorded in the CCAMLR-approved format ¹ and submitted to the relevant national agency and CCAMLR Data Manager within two months of the vessel departing a fishery to which this measure applies.

Protocol B (for vessels monitoring longline sink rate with bottle tests and using longlines to which weights are manually attached):

B1. Prior to entry into force of the licence for this fishery and once per fishing season prior to entering the Convention Area, the vessel shall, under observation by a scientific observer:

(i) Set a minimum of two longlines with a minimum of four bottle tests (see paragraphs B5 to B9) on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area.

(ii) Randomise bottle test placement on the longline, noting that all tests should be applied midway between weights;

(iii) Calculate an individual sink rate for each bottle test at the time of the test, where:

(a) The sink rate shall be measured as the time taken for the longline to sink from the surface (0 m) to 10 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

B2. During fishing, for a vessel to be allowed to maintain the exemption to night-time setting requirements (paragraph 4 of Conservation Measure 25-02), regular longline sink rate monitoring shall be undertaken by the CCAMLR scientific observer. The vessel shall cooperate with the CCAMLR observer who shall:

(i) Attempt to conduct a bottle test on one longline set every twenty-four hour period;

(ii) Every seven days conduct at least four bottle tests on a single longline to determine any sink rate variation along the longline;

(iii) Randomise bottle test placement on the longline, noting that all tests should be applied halfway between weights;

(iv) Calculate an individual longline sink rate for each bottle test at the time of the test;

(v) Measure the longline sink rate as the time taken for the longline to sink from the surface (0 m) to 10 m.

B3. The vessel shall:

(i) Ensure that all longlines are weighted to achieve a minimum longline sink rate of 0.3 m/s at all times whilst operating under this exemption;

(ii) Report daily to its national agency on the achievement of this target whilst operating under this exemption;

(iii) Ensure that data collected from longline sink rate tests prior to entering the Convention Area and longline sink rate monitoring during fishing are recorded in the CCAMLR-approved format ¹ and submitted to the relevant national agency and CCAMLR Data Manager within two months of the vessel departing a fishery to which this measure applies.

B4. A bottle test is to be conducted as described below.

Bottle Set Up

B5. 10 m of 2 mm multifilament nylon snood twine, or equivalent, is securely attached to the neck of a 500-1 000 ml plastic bottle ² with a longline clip attached to the other end. The length measurement is taken from the attachment point (terminal end of the clip) to the neck of the bottle, and should be checked by the observer every few days.

B6. Reflective tape should be wrapped around the bottle to allow it to be observed in low light conditions and at night.

Test

B7. The bottle is emptied of water, the stopper is left open and the twine is wrapped around the body of the bottle for setting. The bottle with the encircled twine is attached to the longline ³, midway between weights (the attachment point).

B8. The observer records the time at which the attachment point enters the water as t1 in seconds. The time at which the bottle is observed to be pulled completely under is recorded as t2 in seconds ⁴. The result of the test is calculated as follows: Longline sink rate = 10/(t2-t1).

B9. The result should be equal to or greater than 0.3 m/s. These data are to be recorded in the space provided in the electronic observer logbook. Protocol C (for vessels monitoring longline sink rate with either (TDR) or bottle tests, and using internally weighted longlines with integrated weight of at least 50 g/m and designed to sink instantly with a linear profile at greater than 0.2 m/s with no external weights attached):

C1. Prior to entry into force of the licence for this fishery and once per fishing season prior to entering the Convention Area, the vessel shall, under observation by a scientific observer:

(i) Set a minimum of two longlines with either a minimum of four TDRs, or a minimum of four bottle tests (see paragraphs B5 to B9) on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area.

(ii) Randomise TDR or bottle test placement on the longline;

(iii) Calculate an individual sink rate for each TDR when returned to the vessel, or for each bottle test at the time of the test, where:

(a) The sink rate shall be measured as an average of the time taken for the longline to sink from the surface (0 m) to 15 m for TDRs and the time taken for the longline to sink from the surface (0 m) to 10 m for bottle tests;

(b) This sink rate shall be at a minimum rate of 0.2 m/s;

(iv) If the minimum sink rate is not achieved at all eight sample points (four tests on two longlines), continue the testing until such time as a total of eight tests with a minimum sink rate of 0.2 m/s are recorded;

(v) All equipment and fishing gear used in the tests is to be to the same specifications as that to be used in the Convention Area.

C2. During fishing, for a vessel to be allowed to maintain the exemption to night-time setting requirements (paragraph 4 of Conservation Measure 25-02), regular longline sink rate monitoring shall be undertaken by the CCAMLR scientific observer. The vessel shall cooperate with the CCAMLR observer who shall:

(i) Attempt to conduct a TDR or bottle test on one longline set every twenty-four hour period;

(ii) Every seven days conduct at least four TDR or bottle tests on a single longline to determine any sink rate variation along the longline;

(iii) Randomise TDR or bottle test placement on the longline;

(iv) Calculate an individual longline sink rate for each TDR when returned to the vessel or each bottle test at the time of the test;

(v) Measure the longline sink rate for bottle tests as the time taken for the longline to sink from the surface (0 m) to 10 m, or for TDRs the average of the time taken for the longline to sink from the surface (0 m) to 15 m.

C3. The vessel shall:

(i) Ensure that all longlines are set so as to achieve a minimum longline sink rate of 0.2 m/s at all times whilst operating under this exemption;

(ii) Report daily to its national agency on the achievement of this target whilst operating under this exemption;

(iii) Ensure that data collected from longline sink rate tests prior to entering the Convention Area and longline sink rate monitoring during fishing are recorded in the CCAMLR-approved format¹ and submitted to the relevant national agency and CCAMLR Data Manager within two months of the vessel departing a fishery to which this measure applies.

¹ Included in the scientific observer electronic logbook.

² A plastic water bottle that has a ‘stopper’ is needed. The stopper of the bottle is left open so that the bottle will fill with water after being pulled under water. This allows the plastic bottle to be re-used rather than being crushed by water pressure.

³ On autolines attach to the backbone; on the Spanish longline system attach to the hookline.

⁴ Binoculars will make this process easier to view, especially in foul weather.

Conservation Measure 25-02 (2005) 1 2

Minimisation of the Incidental Mortality of Seabirds in the Course of Longline Fishing or Longline Fishing Research in the Convention Area

Species seabirds

Area all

Season all

Gear longline

The Commission,

Noting the need to reduce the incidental mortality of seabirds during longline fishing by minimising their attraction to fishing vessels and by preventing them from attempting to seize baited hooks, particularly during the period when the lines are set, Recognising that in certain subareas and divisions of the Convention Area there is also a high risk that seabirds will be caught during line hauling, Adopts the following measures to reduce the possibility of incidental mortality of seabirds during longline fishing.

1. Fishing operations shall be conducted in such a way that hooklines ³ sink beyond the reach of seabirds as soon as possible after they are put in the water.

2. Vessels using autoline systems should add weights to the hookline or use integrated weight hooklines while deploying longlines. Integrated weight (IW) longlines of a minimum of 50 g/m or attachment to non-IW longlines of 5 kg weights at 50 to 60 m intervals are recommended.

3. Vessels using the Spanish method of longline fishing should release weights before line tension occurs; weights of at least 8.5 kg mass shall be used, spaced at intervals of no more than 40 m, or weights of at least 6 kg mass shall be used, spaced at intervals of no more than 20 m.

4. Longlines shall be set at night only (i.e. during the hours of darkness between the times of nautical twilight).4 5 During longline fishing at night, only the minimum ship's lights necessary for safety shall be used.

5. The dumping of offal is prohibited while longlines are being set. The dumping of offal during the haul shall be avoided. Any such discharge shall take place only on the opposite side of the vessel to that where longlines are hauled. For vessels or fisheries where there is not a requirement to retain offal on board the vessel, a system shall be implemented to remove fish hooks from offal and fish heads prior to discharge.

6. Vessels which are so configured that they lack on-board processing facilities or adequate capacity to retain offal on board, or the ability to discharge offal on the opposite side of the vessel to that where longlines are hauled, shall not be authorised to fish in the Convention Area.

7. A streamer line shall be deployed during longline setting to deter birds from approaching the hookline. Specifications of the streamer line and its method of deployment are given in the appendix to this measure.

8. A device designed to discourage birds from accessing baits during the haul of longlines shall be employed in those areas defined by CCAMLR as average-to-high or high (Level of Risk 4 or 5) in terms of risk of seabird by-catch. These areas are currently Statistical Subareas 48.3, 58.6 and 58.7 and Statistical Divisions 58.5.1 and 58.5.2.

9. Every effort should be made to ensure that birds captured alive during longlining are released alive and that wherever possible hooks are removed without jeopardising the life of the bird concerned.

10. Other variations in the design of mitigation measures may be tested on vessels carrying two observers, at least one appointed in accordance with the CCAMLR Scheme of International Scientific Observation, providing that all other elements of this conservation measure are complied with ⁶. Full proposals for any such testing must be notified to the Working Group on Fish Stock Assessment (WG-FSA) in advance of the fishing season in which the trials are proposed to be conducted.

¹ Except for waters adjacent to the Kerguelen and Crozet Islands

² Except for waters adjacent to the Prince Edward Islands

³ Hookline is defined as the groundline or mainline to which the baited hooks are attached by snoods.

⁴ The exact times of nautical twilight are set forth in the Nautical Almanac tables for the relevant latitude, local time and date. A copy of the algorithm for calculating these times is available from the CCAMLR Secretariat. All times, whether for ship operations or observer reporting, shall be referenced to GMT.

⁵ Wherever possible, setting of lines should be completed at least three hours before sunrise (to reduce loss of bait to/catches of white-chinned petrels).

⁶ The mitigation measures under test should be constructed and operated taking full account of the principles set out in WG-FSA-03/22 (the published version of which is available from the ccamlr Secretariat and website); testing should be carried out independently of actual commercial fishing and in a manner consistent with the spirit of Conservation Measure 21-02.

Appendix to Conservation Measure 25-02

1. The aerial extent of the streamer line, which is the part of the line supporting the streamers, is the effective seabird deterrent component of a streamer line. Vessels are encouraged to optimise the aerial extent and ensure that it protects the hookline as far astern of the vessel as possible, even in crosswinds.

2. The streamer line shall be attached to the vessel such that it is suspended from a point a minimum of 7 m above the water at the stern on the windward side of the point where the hookline enters the water.

3. The streamer line shall be a minimum of 150 m in length and include an object towed at the seaward end to create tension to maximise aerial coverage. The object towed should be maintained directly behind the attachment point to the vessel such that in crosswinds the aerial extent of the streamer line is over the hookline.

4. Branched streamers, each comprising two strands of a minimum of 3 mm diameter brightly coloured plastic tubing ⁷ or cord, shall be attached no more than 5 m apart commencing 5 m from the point of attachment of the streamer line to the vessel and thereafter along the aerial extent of the line. Streamer length shall range between minimums of 6.5 m from the stern to 1 m for the seaward end. When a streamer line is fully deployed, the branched streamers should reach the sea surface in the absence of wind and swell. Swivels or a similar device should be placed in the streamer line in such a way as to prevent streamers being twisted around the streamer line. Each branched streamer may also have a swivel or other device at its attachment point to the streamer line to prevent fouling of individual streamers.

5. Vessels are encouraged to deploy a second streamer line such that streamer lines are towed from the point of attachment each side of the hookline. The leeward streamer line should be of similar specifications (in order to avoid entanglement the leeward streamer line may need to be shorter) and deployed from the leeward side of the hookline.

⁷ Plastic tubing should be of a type that is manufactured to be protected from ultraviolet radiation.

Streamer Line

Aerial extent

Towing point

Streamers

Hookline

Towed object creating tension 5 m

5 m

5 m

7 m

Conservation Measure 32-09 (2005)

Prohibition of Directed Fishing for Dissostichus spp. Except in Accordance With Specific Conservation Measures in the 2005/06 Season

Species toothfish

Area 48.5

Season 2005/06

Gear all

The Commission hereby adopts the following conservation measure in accordance with Article IX of the Convention:

Directed fishing for Dissostichus spp. in Statistical Subarea 48.5 is prohibited from 1 December 2005 to 30 November 2006.

Conservation Measure 33-02 (2005)

Limitation of By-Catch in Statistical Division 58.5.2 in the 2005/06 Season

Species by-catch

Area 58.5.2

Season 2005/06

Gear all

1. There shall be no directed fishing for any species other than Dissostichus eleginoides and Champsocephalus gunnari in Statistical Division 58.5.2 in the 2005/06 fishing season.

2. In directed fisheries in Statistical Division 58.5.2 in the 2005/06 season, the by-catch of Channichthys rhinoceratus shall not exceed 150 tonnes, the by-catch of Lepidonotothen squamifrons shall not exceed 80 tonnes, the by-catch of Macrourus spp. shall not exceed 360 tonnes and the by-catch of skates and rays shall not exceed 120 tonnes. For the purposes of this measure, ‘Macrourus spp.’ and ‘skates and rays’ should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp., Somniosus spp. or skates and rays is equal to, or greater than 2 tonnes, then the fishing vessel shall not fish using that method of fishing at any point within 5 n miles ¹ of the location where the by-catch exceeded 2 tonnes for a period of at least five days ². The location where the by-catch exceeded 2 tonnes is defined as the path ³ followed by the fishing vessel.

5. If, in the course of a directed fishery, the by-catch in any one haul of any other by-catch species for which by-catch limitations apply under this conservation measure is equalto, or greater than 1 tonne, then the fishing vessel shall not fish using that method of fishing at any point within 5 n miles ¹ of the location where the by-catch exceeded 1 tonne for a period of at least five days ². The location where the by-catch exceeded 1 tonne is defined as the path ³ followed by the fishing vessel.

¹ This provision concerning the minimum distance separating fishing locations is adopted pending the adoption of a more appropriate definition of a fishing location by the Commission.

² The specified period is adopted in accordance with the reporting period specified in Conservation Measure 23-01, pending the adoption of a more appropriate period by the Commission.

³ For a trawl the path is defined from the point at which the fishing gear was first deployed from the fishing vessel to the point at which the fishing gear was retrieved by the fishing vessel. For a longline or a pot, the path is defined from the point at which the first anchor of a set was deployed to the point at which the last anchor of that set was deployed.

Conservation Measure 33-03 (2005) 1 2

Limitation of By-Catch in New and Exploratory Fisheries in the 2005/06 Season

Species by-catch

Area various

Season 2005/06

Gear all

1. This conservation measure applies to new and exploratory fisheries in all areas containing small-scale research units (SSRUs) in the 2005/06 season except where specific by-catch conservation measures apply.

2. The catch limits for all by-catch species are set out in Annex 33-03/A. Within these catch limits, the total catch of by-catch species in any SSRU or combination of SSRUs as defined in relevant conservation measures shall not exceed the following limits:

• Skates and rays 5% of the catch limit of Dissostichus spp. or 50 tonnes whichever is greater;

• Macrourus spp. 16% of the catch limit for Dissostichus spp. or 20 tonnes, whichever is greater;

• All other species combined 20 tonnes.

3. For the purposes of this measure ‘Macrourus spp.’ and ‘skates and rays’ should each be counted as a single species.

4. If the by-catch of any one species is equal to or greater than 1 tonne in any one haul or set, then the fishing vessel shall move to another location at least 5 n miles ³ distant. The fishing vessel shall not return to any point within 5 n miles of the location where the by-catch exceeded 1 tonne for a period of at least five days ⁴. The location where the by-catch exceeded 1 tonne is defined as the path ⁵ followed by the fishing vessel.

5. If the catch of Macrourus spp. taken by a single vessel in any two 10-day periods ⁶ in a single SSRU exceeds 16% of the catch of Dissostichus spp. by that vessel in that SSRU in those periods, the vessel shall cease fishing in that SSRU for the remainder of the season.

¹ Except for waters adjacent to the Kerguelen and Crozet Islands.

² Except for waters adjacent to the Prince Edward Islands.

³ This provision concerning the minimum distance separating fishing locations is adopted pending the adoption of a more appropriate definition of a fishing location by the Commission.

⁴ The specified period is adopted in accordance with the reporting period specified in Conservation Measure 23-01, pending the adoption of a more appropriate period by the Commission.

⁵ For a trawl the path is defined from the point at which the fishing gear was first deployed from the fishing vessel to the point at which the fishing gear was retrieved by the fishing vessel. For a longline the path is defined from the point at which the first anchor of a set was deployed to the point at which the last anchor of that set was deployed.

⁶ A 10-day period is defined as day 1 to day 10, day 11 to day 20, or day 21 to the last day of the month.

Annex 33-03/A

Table 1: By-catch catch limits for new and exploratory fisheries in 2005/06.

Subarea/Division

Region Dissostichus spp. catch limit

(tonnes per region)

Skates and rays

(tonnes per region)

By-catch catch limit Macrourus spp.

(tonnes per region)

Other species

(tonnes per SSRU)

48.6 north of 60°S 455 50 73 20 south of 60°S 455 50 73 20

58.4.1 whole division 600 50 96 20,

58.4.2 whole division 780 50 124 20,

58.4.3a whole division 250 50 26 20,

58.4.3b whole division 300 50 159 20,

88.1 whole subarea 2964 148 474 20,

88.2 south of 65°S 487 50 78 20.

Region: As defined in column 2 of this table.

Rules for catch limits for by-catch species:

Skates and rays: 5% of the catch limit for Dissostichus spp. or 50 tonnes, which ever is greatest (SC-CAMLR-XXI, paragraph 5.76).

Macrourus spp.: 16% of the catch limit for Dissostichus spp., except in Divisions 58.4.3a and 58.4.3b (SC-CAMLR-XXII, paragraph 4.207).

Other species: 20 tonnes per SSRU.

Conservation Measure 41-01 (2005) 1 2

General Measures for Exploratory Fisheries for Dissostichus spp. in the Convention Area in the 2005/06 Season

Species toothfish

Area various

Season 2005/06

Gear longline, trawl

The Commission hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ³ and that SSRU shall be closed to fishing for the remainder of the season.

3. In order to give effect to paragraph 2 above:

(i) The precise geographic position of a haul in trawl fisheries will be determined by the mid-point of the path between the start-point and end-point of the haul for the purposes of catch and effort reporting;

(ii) The precise geographic position of a haul/set in longline fisheries will be determined by the centre-point of the line or lines deployed for the purposes of catch and effort reporting;

(iii) The vessel will be deemed to be fishing in any SSRU from the beginning of the setting process until the completion of the hauling of all lines;

(iv) Catch and effort information for each species by SSRU shall be reported to the Executive Secretary every five days using the Five-Day Catch and Effort Reporting System set out in Conservation Measure 23-01;

(v) The Secretariat shall notify Contracting Parties participating in these fisheries when the total catch for Dissostichus eleginoides and Dissostichus mawsoni combined in any SSRU is likely to reach the specified catch limit, and of the closure of that SSRU when that limit is reached. Upon such notification from the Secretariat, all fishing gear shall be hauled immediately. No part of a trawl path may lie within a closed SSRU and no part of a longline may be set within a closed SSRU.

4. The by-catch in each exploratory fishery shall be regulated as in Conservation Measure 33-03.

5. The total number and weight of Dissostichus eleginoides and Dissostichus mawsoni discarded, including those with the ‘jellymeat’ condition, shall be reported.

6. Each vessel participating in the exploratory fisheries for Dissostichus spp. during the 2005/06 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2006 shall be reported to CCAMLR by 30 September 2006 so that the data will be available to the meeting of the Working Group on Fish Stock Assessment (WG-FSA) in 2006. Such data taken after 31 August 2006 shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ Unless otherwise specified, the catch limit for Dissostichus spp. shall be 100 tonnes in any SSRU except in respect of Subarea 88.2.

Annex 41-01/A

Data Collection Plan for Exploratory Fisheries

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms;

(viii) Observation on occurrence and incidental mortality of seabirds and mammals in relation to fishing operations.

3. Data specific to longline fisheries will be collected. These include:

(i) Position and sea depth at each end of every line in a haul;

(ii) Setting, soak, and hauling times;

(iii) Number and species of fish lost at surface;

(iv) Number of hooks set;

(v) Bait type;

(vi) Baiting success (%);

(vii) Hook type;

(viii) Sea and cloud conditions and phase of the moon at the time of setting the lines.

Annex 41-01/B

Research Plan for Exploratory Fisheries

1. Activities under this research plan shall not be exempted from any conservation measure in force.

2. This plan applies to all small-scale research units (SSRUs) as defined in Table 1 and Figure 1.

3. Except when fishing in Statistical Subareas 88.1 and 88.2 (see paragraph 5), any vessel undertaking prospecting or commercial fishing in any SSRU must undertake the following research activities:

(i) On first entry into an SSRU, the first 10 hauls, designated ‘first series,’ whether by trawl or longline, shall be designated ‘research hauls’ and must satisfy the criteria set out in paragraph 4.

(ii) The next 10 hauls, or 10 tonnes of catch for longlining, whichever trigger level is achieved first, or 10 tonnes of catch for trawling, are designated the ‘second series’. Hauls in the second series can, at the discretion of the master, be fished as part of normal exploratory fishing. However, provided they satisfy the requirements of paragraph 4, these hauls can also be designated as research hauls.

(iii) On completion of the first and second series of hauls, if the master wishes to continue to fish within the SSRU, the vessel must undertake a ‘third series’ which will result in a total of 20 research hauls being made in all three series. The third series of hauls shall be completed during the same visit as the first and second series in an SSRU.

(iv) On completion of 20 research hauls the vessel may continue to fish within the SSRU.

4. To be designated as a research haul:

(i) Each research haul must be separated by not less than 5 n miles from any other research haul, distance to be measured from the geographical mid-point of each research haul;

(ii) Each haul shall comprise: for longlines, at least 3 500 hooks and no more than 10 000 hooks; this may comprise a number of separate lines set in the same location; for trawls, at least 30 minutes effective fishing time as defined in the Draft Manual for Bottom Trawl Surveys in the Convention Area (SC-CAMLR-XI, Annex 5, Appendix H, Attachment E, paragraph 4);

(iii) Each haul of a longline shall have a soak time of not less than six hours, measured from the time of completion of the setting process to the beginning of the hauling process.

5. In the exploratory fisheries in Subareas 88.1 and 88.2, all data specified in the Data Collection Plan (Annex 41-01/A) of this conservation measure shall be collected for every haul; all fish of each Dissostichus species in a haul (up to a maximum of 35 fish) are to be measured and randomly sampled for biological studies (paragraphs 2(iv) to (vi) of Annex 41-01/A).

6. In all other exploratory fisheries, all data specified in the Data Collection Plan (Annex 41-01/A) of this conservation measure shall be collected for every research haul; inparticular, all fish in a research haul up to 100 fish are to be measured and at least 30 fish sampled for biological studies (paragraphs 2(iv) to (vi) of Annex 41-01/A). Where more than 100 fish are caught, a method for randomly subsampling the fish should be applied.

Figure 1: Small-scale research units for new and exploratory fisheries. The boundaries of these units are listed in Table 1. EEZ boundaries for Australia, France and South Africa are marked in order to address notifications for new and exploratory fisheries in waters adjacent to these zones. Dashed line—delineation between Dissostichus eleginoides and Dissostichus mawsoni.

Table 1: Description of small-scale research units (SSRUs) (see also Figure 1).

Region SSRU Boundary Line

48.6 A From 50°S 20°W, due east to 30°E, due south to 60°S, due west to 20°W, due north to 50°S.

B From 60°S 20°W, due east to 10°W, due south to coast, westward along coast to 20°W, due north to 60°S.

C From 60°S 10°W, due east to 0° longitude, due south to coast, westward along coast to 10°W, due north to 60°S.

D From 60°S 0° longitude, due east to 10°E, due south to coast, westward along coast to 0° longitude, due north to 60°S.

E From 60°S 10°E, due east to 20°E, due south to coast, westward along coast to 10°E, due north to 60°S.

F From 60°S 20°E, due east to 30°E, due south to coast, westward along coast to 20°E, due north to 60°S.

58.4.1 A From 55°S 86°E, due east to 150°E, due south to 60°S, due west to 86°E, due north to 55°S.

B From 60°S 86°E, due east to 90°E, due south to coast, westward along coast to 80°E, due north to 64°S, due east to 86°E, due north to 60°S.

C From 60°S 90°E, due east to 100°E, due south to coast, westward along coast to 90°E, due north to 60°S.

D From 60°S 100°E, due east to 110°E, due south to coast, westward along coast to 100°E, due north to 60°S.

E From 60°S 110°E, due east to 120°E, due south to coast, westward along coast to 110°E, due north to 60°S.

F From 60°S 120°E, due east to 130°E, due south to coast, westward along coast to 120°E, due north to 60°S.

G From 60°S 130°E, due east to 140°E, due south to coast, westward along coast to 130°E, due north to 60°S.

H From 60°S 140°E, due east to 150°E, due south to coast, westward along coast to 140°E, due north to 60°S.

58.4.2 A From 62°S 30°E, due east to 40°E, due south to coast, westward along coast to 30°E, due north to 62°S.

B From 62°S 40°E, due east to 50°E, due south to coast, westward along coast to 40°E, due north to 62°S.

C From 62°S 50°E, due east to 60°E, due south to coast, westward along coast to 50°E, due north to 62°S.

D From 62°S 60°E, due east to 70°E, due south to coast, westward along coast to 60°E, due north to 62°S.

E From 62°S 70°E, due east to 73°10'E, due south to 64°S, due east to 80°E, due south to coast, westward Lonag coast to 70°E, due north to 62°S.

58.4.3a A Whole division, from 56°S 60°E, due east to 73°10′E, due south to 62°S, due west to 60°E, due north to 56°S.

58.4.3b A Whole division, from 56°S 73°10′E, due east to 80°E, due north to 55°S, due east to 86°E, south to 64°S, due west to 73°10′E, due north to 56°S.

58.4.4 A From 51°S 40°E, due east to 42°E, due south to 54°S, due west to 40°E, due north to 51°S.

B From 51°S 42°E, due east to 46°E, due south to 54°S, due west to 42°E, due north to 51°S.

C From 51°S 46°E, due east to 50°E, due south to 54°S, due west to 46°E, due north to 51°S.

D Whole division excluding SSRUs A, B, C, and with outer boundary from 50°S 30°E, due east to 60°E, due south to 62°S, due west to 30°E, due north to 50°S. continued Table 1 (continued) Region SSRU Boundary Line

58.6 A From 45°S 40°E, due east to 44°E, due south to 48°S, due west to 40°E, due north to 45°S.

B From 45°S 44°E, due east to 48°E, due south to 48°S, due west to 44°E, due north to 45°S.

C From 45°S 48°E, due east to 51°E, due south to 48°S, due west to 48°E, due north to 45°S.

D From 45°S 51°E, due east to 54°E, due south to 48°S, due west to 51°E, due north to 45°S.

58.7 A From 45°S 37°E, due east to 40°E, due south to 48°S, due west to 37°E, due north to 45°S.

88.1 A From 60°S 150°E, due east to 170°E, due south to 65°S, due west to 150°E, due north to 60°S.

B From 60°S 170°E, due east to 179°E, due south to 66°40′S, due west to 170°E, due north to 60°S.

C From 60°S 179°E, due east to 170°W, due south to 70°S, due west to 178°W, due north to 66°40′S, due west to 179°E, due north to 60°S.

D From 65°S 150°E, due east to 160°E, due south to coast, westward along coast to 150°E, due north to 65°S.

E From 65°S 160°E, due east to 170°E, due south to 68°30′S, due west to 160°E, due north to 65°S.

F From 68°30′S 160°E, due east to 170°E, due south to coast, westward along coast to 160°E, due north to 68°30′S.

G From 66°40′S 170°E, due east to 178°W, due south to 70°S, due west to 178°50′E, due south to 70°50′S, due west to 170°E, due north to 66°40′S.

H From 70°50′S 170°E, due east to 178°50′E, due south to 73°S, due west to coast, northward along coast to 170°E, due north to 70°50′S.

I From 70°S 178°50′E, due east to 170°W, due south to 73°S, due west to 178°50′E, due north to 70°S.

J From 73°S at coast near 169°30′E, due east to 178°50′E, due south to 80°S, due west to coast, northward along coast to 73°S.

K From 73°S 178°50′E, due east to 170°W, due south to 76°S, due west to 178°50′E, due north to 73°S.

L From 76°S 178°50′E, due east to 170°W, due south to 80°S, due west to 178°50′E, due north to 76°S.

88.2 A From 60°S 170°W, due east to 160°W, due south to coast, westward along coast to 170°W, due north to 60°S.

B From 60°S 160°W, due east to 150°W, due south to coast, westward along coast to 160°W, due north t 60°S.

C From 60°S 150°W, due east to 140°W, due south to coast, westward along coast to 150°W, due north to 60°S.

D From 0°S 140°W, due east to 130°W, due south to coast, westward along coast to 140°W, due north to

E From 60°S 130°W, due east to 120°W, due south to coast, westward along coast to 130°W, due north to 60°S.

F From 60°S 120°W, due east to 110°W, due south to coast, westward along coast to 120°W, due north to 60°S.

G From 60°S 110°W, due east to 105°W, due south to coast, westward along coast to 110°W, due north to 60°S.

88.3 A From 60°S 105°W, due east to 95°W, due south to coast, westward along coast to 105°W, due north to 60°S.

B From 60°S 95°W, due east to 85°W, due south to coast, westward along coast to 95°W, due north to 60°S.

C From 60°S 85°W, due east to 75°W, due south to coast, westward along coast to 85°W, due north to 60°S.

D 60 From 60°S 75°W, due east to 70°W, due south to coast, westward along coast to 75°W, due north to 60°S.

Annex 41-01/C

Tagging Program for Dissostichus spp. in Exploratory Fisheries

1. The CCAMLR scientific observer, in cooperation with the fishing vessel, shall be required to undertake the tagging program.

2. This program shall apply in each exploratory longline fishery, and any vessel that participates in more then one exploratory fishery shall apply the following in each exploratory fishery in which that vessels fishes:

(i) Each longline vessel shall tag and release Dissostichus spp. at a rate of one toothfish per tonne of green weight catch throughout the season according to the CCAMLR Tagging Protocol.¹ Vessels shall only discontinue tagging after they have tagged 500 toothfish, or leave the fishery having tagged one toothfish per tonne of green weight caught.

(ii) The program shall target toothfish of all sizes in order to meet the tagging requirement of one toothfish per tonne of green weight catch.² All released toothfish must be double-tagged and releases should cover as broad a geographical area as possible.

(iii) All tags shall be clearly imprinted with a unique serial number and a return address so that the origin of tags can be traced in the case of recapture of the tagged toothfish. ¹

Recaptured tagged fish (i.e. fish caught that have a previously inserted tag) shall not be re-released, even if at liberty for only a short period.

(v) All recaptured tagged fish should be biologically sampled (length, weight, sex, gonad stage), an electronic photograph taken if possible, the otoliths recovered and the tag removed.

3. All relevant tag data and any data recording tag recaptures shall be reported electronically in the CCAMLR format ¹ to the CCAMLR Data Manager within three months of the vessel departing the exploratory fisheries.

4. All relevant tag data, any data recording tag recaptures, and specimens (tags and otoliths) from recaptures shall also be reported electronically in the CCAMLR format ¹ to the relevant regional tag data repository as detailed in the CCAMLR Tagging Protocol (available at www.ccamlr.org).

¹ In accordance with the CCAMLR Tagging Protocol for exploratory fisheries which is available from the Secretariat and at www.ccamlr.org.

² In meeting this requirement, fish to be tagged should be in good condition.

Conservation Measure 41-02 (2005)

Limits on the Fishery for Dissostichus Eleginoides in Statistical Subarea 48.3 in the 2005/06 Season

Species toothfish

Area 48.3

Season 2005/06

Gear longline, pot

The Commission hereby adopts the following conservation measure in accordance with Conservation Measure 31-01:

1. The fishery for Dissostichus eleginoides in Statistical Subarea 48.3 shall be conducted by vessels using longlines and pots only.

2. For the purpose of this fishery, the area open to the fishery is defined as that portion of Statistical Subarea 48.3 that lies within the area bounded by latitudes 52°30′S and 56°0′S and by longitudes 33°30′W and 48°0′W.

Access

3. A map illustrating the area defined by paragraph 2 is appended to this conservation measure (Annex 41-02/A). The portion of Subarea 48.3 outside that defined above shall be closed to directed fishing for Dissostichus eleginoides in the 2005/06 season.

Catch Limit

4. The total catch of Dissostichus eleginoides in Statistical Subarea 48.3 in the 2005/06 season shall be limited to 3 556 tonnes. The catch limit shall be further subdivided between the Management Areas shown in Annex 41-02/A as follows:

Management Area A: 0 tonnes

Management Area B: 1 067 tonnes

Management Area C: 2 489 tonnes

Season

5. For the purpose of the longline fishery for Dissostichus eleginoides in Statistical Subarea 48.3, the 2005/06 season is defined as the period from 1 May to 31 August 2006, or until the catch limit is reached, whichever is sooner. For the purpose of the pot fishery for Dissostichus eleginoides in Statistical Subarea 48.3, the 2005/06 season is defined as the period from 1 December 2005 to 30 November 2006, or until the catch limit is reached, whichever is sooner. The season for longline fishing operations may be extended to 14 September 2006 for any vessel which has demonstrated full compliance with Conservation Measure 25-02 in the 2004/05 season. This extension to the season shall also be subject to a catch limit of three (3) seabirds per vessel. If three seabirds are caught during the season extension, fishing shall cease immediately for that vessel.

By-Catch

6. The by-catch of crab in any pot fishery undertaken shall be counted against the catch limit in the crab fishery in Statistical Subarea 48.3.

7. The by-catch of finfish in the fishery for Dissostichus eleginoides in Statistical Subarea 48.3 in the 2005/06 season shall not exceed 177 tonnes for skates and rays and 177 tonnes for Macrourus spp. For the purpose of these by-catch limits, ‘Macrourus spp.’ and ‘skates and rays’ shall each be counted as a single species.

8. If the by-catch of any one species is equal to or greater than 1 tonne in any one haul or set, then the fishing vessel shall move to another location at least 5 n miles ¹ distant. The fishing vessel shall not return to any point within 5 n miles of the location where the by-catch exceeded 1 tonne for a period of at least five days ². The location where the by-catch exceeded 1 tonne is defined as the path ³ followed by the fishing vessel.

Mitigation

9. The operation of this fishery shall be carried out in accordance with Conservation Measure 25-02 so as to minimise the incidental mortality of seabirds in the course of fishing.

Observers

10. Each vessel participating in this fishery shall have at least one scientific observer appointed in accordance with the CCAMLR Scheme of International Scientific Observation, and where possible one additional scientific observer, on board throughout all fishing activities within the fishing period.

Data: Catch/Effort

11. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

12. For the purpose of Conservation Measures 23-01 and 23-04, the target species is Dissostichus eleginoides and by-catch species are defined as any species other than Dissostichus eleginoides.

13. The total number and weight of Dissostichus eleginoides discarded, including those with the ‘jellymeat’ condition, shall be reported. These fish will count towards the total allowable catch.

Data: Biological

14. Fine-scale biological data, as required under Conservation Measure 23-05, shall be collected and recorded. Such data shall be reported in accordance with the CCAMLR Scheme of International Scientific Observation.

Research Fishing

15. Research fishing under the provisions of Conservation Measure 24-01 shall be limited to 10 tonnes of catch and to one vessel in Management Area A shown in the map in Annex 41-02/A during the 2005/06 season. Catches of Dissostichus eleginoides taken under the provisions of Conservation Measure 24-01 in the area of the fishery defined in this conservation measure shall be considered as part of the catch limit.

¹ This provision concerning the minimum distance separating fishing locations is adopted pending the adoption of a more appropriate definition of a fishing location by the Commission.

² The specified period is adopted in accordance with the reporting period specified in Conservation Measure 23-01, pending the adoption of a more appropriate period by the Commission.

³ For a longline or a pot, the path is defined from the point at which the first anchor of a set was deployed to the point at which the last anchor of that set was deployed.

Annex 41-02/A

Subarea 48.3—The area of the fishery and the three management areas for catch allocation in the 2005/06 season according to paragraph 4. Latitudes and longitudes are given in degrees and minutes. 1 000 and 2 000 m contours are shown.

40 W 43 30′ W

Subarea 48.3

52 30′ S

33 30′ W

56 S

Management

Area B

Management

Area A

Management

Area C

48 00′ W

Conservation Measure 41-03 (2005)

Limits on the Fishery for Dissostichus Eleginoides in Statistical Subarea 48.4 in the 2005/06, 2006/07 and 2007/08 Fishing Seasons

Species toothfish

Area 48.4

Season 2005/06-2007/08

Gear Longline

Access

1. Directed fishing shall be by longlines only. The use of all other methods of directed fishing for Dissostichus eleginoides in Statistical Subarea 48.4 shall be prohibited.

2. For the purpose of this fishery, the area open to fishing is defined as that portion of Statistical Subarea 48.4 that lies within the area bounded by latitudes 55°30′S and 57°20′S and by longitudes 25°30′W and 29°30′W.

3. A map illustrating the area defined by paragraph 2 is appended to this conservation measure (Annex 41-03/A). The portion of Statistical Subarea 48.4 outside that defined above shall be closed to directed fishing for Dissostichus eleginoides in the 2005/06, 2006/07 and 2007/08 seasons.

4. The total catch of Dissostichus eleginoides in Statistical Subarea 48.4 shall be limited to 100 tonnes per season.

Catch Limit

5. Taking of Dissostichus mawsoni, other than for scientific research purposes, is prohibited.

6. For the purposes of the fishery for Dissostichus eleginoides in Statistical Subarea 48.4, the fishing season shall be 1 April to 30 September, or until the catch limit for Dissostichus eleginoides in Statistical Subarea 48.4 is reached, whichever is sooner.

Season

Mitigation

7. The operation of this fishery shall be carried out in accordance with Conservation Measure 25-02 so as to minimise the incidental mortality of seabirds in the course of fishing.

Observers

8. Each vessel participating in the fishery for Dissostichus eleginoides in Statistical Subarea 48.4 shall have at least one scientific observer appointed in accordance with the CCAMLR Scheme of International Scientific Observation, on board throughout all fishing activities within the fishing period.

Data: Catch/Effort

9. For the purpose of implementing this conservation measure, the following shall apply:

(i) The Five-day Catch and Effort Reporting System set out in Conservation Measure 23-01;

(ii) The Monthly Fine-scale Catch and Effort Data Reporting System set out in Conservation Measure 23-04. Data shall be reported on a haul-by-haul basis. For the purposes of Conservation Measure 23-04, the target species is Dissostichus eleginoides, and by-catch species' are defined as any species other than Dissostichus eleginoides.

Data: Biological

10. Fine-scale biological data, as required under Conservation Measure 23-05 shall be collected and recorded. Such data shall be reported in accordance with the Scheme of International Scientific Observation.

Tagging Program

11. Each vessel taking part in the fishery for Dissostichus eleginoides in Statistical Subarea 48.4 shall undertake a tagging program in accordance with the CCAMLR Tagging Protocol. The following additional provisions shall apply:

(i) Fish should be tagged at an average rate of five fish per tonne of green weight catch throughout the season;

(ii) Fish should be tagged that have been caught across as broad a range of depths within the designated area as practicable;

(iii) Fish of a range of total lengths should be tagged, concentrating in particular on animals in the vulnerable size range (650-1 000 mm).

Annex 41-03/A

Subarea 48.4—the area of the fishery in the 2005/06, 2006/07 and 2007/08 seasons according to paragraph 2. Latitudes and longitudes are given in degrees. 1 000 and 2 000 m contours are shown.

59

56

55

S

57

58

30 29 28 27 W

Subarea 48.4

25 26

Conservation Measure 41-04 (2005)

Limits on the Exploratory Fishery for Dissostichus spp. in Statistical Subarea 48.6 in the 2005/06 Season

Species toothfish

Area 48.6

Season 2005/06

Gear longline

The Commission hereby adopts the following conservation measure in accordance with Conservation Measure 21-02:

Access

1. Fishing for Dissostichus spp. in Statistical Subarea 48.6 shall be limited to the exploratory longline fishery by Japan and New Zealand. The fishery shall be conducted by Japanese and New Zealand flagged vessels using longlines only. No more than one vessel per country shall fish at any one time.

2. The total catch of Dissostichus spp. in Statistical Subarea 48.6 in the 2005/06 season shall not exceed a precautionary catch limit of 455 tonnes north of 60°S and 455 tonnes south of 60°S.

Catch Limit

3. For the purpose of the exploratory longline fishery for Dissostichus spp. in Statistical Subarea 48.6, the 2005/06 season is defined as the period from 1 December 2005 to 30 November 2006.

Season

By-Catch

4. The by-catch in this fishery shall be regulated as set out in Conservation Measure 33-03.

5. The exploratory longline fishery for Dissostichus spp. in Statistical Subarea 48.6 shall be carried out in accordance with the provisions of Conservation Measure 25-02, except paragraph 4 (night setting), which shall not apply as long as the requirements of Conservation Measure 24-02 are met.

Mitigation

6. Any vessel catching a total of three (3) seabirds shall immediately revert to night setting in accordance with Conservation Measure 25-02.

7. There shall be no offal discharge in this fishery.

Observers

8. Each vessel participating in the fishery shall have at least two scientific observers, one of whom shall be an observer appointed in accordance with the CCAMLR Scheme of International Scientific Observation, on board throughout all fishing activities within the fishing period.

Data: Catch/Effort

9. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research

12. Each vessel participating in this exploratory fishery shall conduct fishery-based research in accordance with the Research Plan and Tagging Program described in Conservation Measure 41-01, Annex B and Annex C respectively.

Discharge

13. All vessels participating in this exploratory fishery shall, south of 60°S, be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional elements

14. No live poultry or other living birds shall be brought into Statistical Subarea 48.6 south of 60°S and any dressed poultry not consumed shall be removed from Statistical Subarea 48.6 south of 60°S.

Conservation Measure 41-05 (2005)

Limits on the Exploratory Fishery for Dissostichus spp. in Statistical Division 58.4.2 in the 2005/06 Season

Species toothfish

Area 58.4.2

Season 2005/06

Gear longline

The Commission hereby adopts the following conservation measure in accordance with Conservation Measure 21-02, and notes that this measure would be for one year and that data arising from these activities would be reviewed by the Scientific Committee:

Access

1. Fishing for Dissostichus spp. in Statistical Division 58.4.2 shall be limited to the exploratory longline fishery by Australia, Chile, Republic of Korea, New Zealand and Spain. The fishery shall be conducted by one (1) Australian, two (2) Chilean, one (1) Korean, two (2) New Zealand and two (2) Spanish flagged vessels using longlines only.

2. The total catch of Dissostichus spp. in Statistical Division 58.4.2 in the 2005/06 season shall not exceed a precautionary catch limit of 780 tonnes, of which no more than 260 tonnes shall be taken in any one of the five small-scale research units (SSRUs) as detailed in Annex B of Conservation Measure 41-01.

Catch Limit

3. Catch limits for each of the SSRUs for Statistical Division 58.4.2, shall be as follows: A - 260 tonnes; B - 0 tonnes; C - 260 tonnes; D - 0 tonnes; E - 260 tonnes.

4. For the purpose of the exploratory longline fishery for Dissostichus spp. in Statistical Division 58.4.2, the 2005/06 season is defined as the period from 1 December 2005 to 30 November 2006.

Season

5. The exploratory longline fishery for Dissostichus spp. in Statistical Division 58.4.2 shall be carried out in accordance with the provisions of Conservation Measure 41-01, except paragraph 6.

Fishing Operations

6. Fishing will be prohibited in depths less than 550 m in order to protect benthic communities.

By-Catch

7. The by-catch in this fishery shall be regulated as set out in Conservation Measure 33-03.

8. The exploratory longline fishery for Dissostichus spp. in Statistical Division 58.4.2 shall be carried out in accordance with the provisions of Conservation Measure 25-02, except paragraph 4 (night setting) shall not apply, providing that vessels comply with Conservation Measure 24-02.

Mitigation

9. Any vessel catching a total of three (3) seabirds shall immediately revert to night setting in accordance with Conservation Measure 25-02.

10. There shall be no offal discharge in this fishery.

Observers

11. Each vessel participating in the fishery shall have at least two scientific observers, one of whom shall be an observer appointed in accordance with the CCAMLR Scheme of International Scientific Observation, on board throughout all fishing activities within the fishing period.

Research

12. Each vessel participating in this exploratory fishery shall conduct fishery-based research in accordance with the Research Plan and Tagging Program described in Conservation Measure 41-01, Annex B and Annex C respectively.

Data: Catch/Effort

13. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data: Biological

15. Fine-scale biological data, as required under Conservation Measure 23-05, shall be collected and recorded. Such data shall be reported in accordance with the CCAMLR Scheme of International Scientific Observation.

Discharge

16. All vessels participating in this exploratory fishery shall be prohibited from discharging:

(i) Oil or fuel products or oily residues into the sea, except as permitted in Annex I of MARPOL 73/78;

(ii) Garbage;

(iii) Food wastes not capable of passing through a screen with openings no greater than 25 mm;

(iv) poultry or parts (including egg shells);

(v) sewage within 12 n miles of land or ice shelves, or sewage while the ship is travelling at a speed of less than 4 knots; or

(vi) Incineration ash.

Additional Elements

17. No live poultry or other living birds shall be brought into Statistical Division 58.4.2 and any dressed poultry not consumed shall be removed from Statistical Division 58.4.2.

Conservation Measure 41-06 (2005)

Limits on the Exploratory Fishery for Dissostichus spp. on Elan Bank (Statistical Division 58.4.3a) Outside Areas of National Jurisdiction in the 2005/06 Season

Species toothfish

Area 58.4.3a

Season 2005/06

Gear longline

The Commission hereby adopts the following conservation measure in accordance with Conservation Measure 21-02:

Access

1. Fishing for Dissostichus spp. on Elan Bank (Statistical Division 58.4.3a) outside areas of national jurisdiction shall be limited to the exploratory fishery by Australia, Chile, Republic of Korea and Spain. The fishery shall be conducted by Australian, Korean, Chilean and Spanish flagged vessels using longlines only. No more than one vessel per country shall fish at any one time.

2. The total catch of Dissostichus spp. on Elan Bank (Statistical Division 58.4.3a) outside areas of national jurisdiction in the 2005/06 season shall not exceed a precautionary catch limit of 250 tonnes.

Catch Limit

3. For the purpose of the exploratory longline fishery for Dissostichus spp. on Elan Bank (Statistical Division 58.4.3a) outside areas of national jurisdiction, the 2005/06 season is defined as the period from 1 May to 31 August 2006, or until the catch limit is reached, whichever is sooner.

Season

By-Catch

4. The by-catch in this fishery shall be regulated as set out in Conservation Measure 33-03.

Mitigation

5. The operation of this fishery shall be carried out in accordance with Conservation Measure 25-02 so as to minimize the incidental mortality of seabirds in the course of fishing.

6. The fishery on Elan Bank (Statistical Division 58.4.3a) outside areas of national jurisdiction, may take place outside the prescribed season (paragraph 3) provided that, prior to entry into force of the licence and prior to entering the Convention Area, each vessel shall demonstrate its capacity to comply with longline weighting as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2005/06 fishing season.

Observers

8. Each vessel participating in this fishery shall have at least one scientific observer appointed in accordance with the CCAMLR Scheme of International Scientific Observation, and where possible one additional scientific observer, on board throughout all fishing activities within the fishing period.

Data: Catch/Effort

9. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research

12. Each vessel participating in this exploratory fishery shall conduct fishery-based research in accordance with the Research Plan and Tagging Program described in Conservation Measure 41-01, Annex B and Annex C respectively.

Conservation Measure 41-07 (2005)

Limits on the Exploratory Fishery for Dissostichus spp. on BANZARE Bank (Statistical Division 58.4.3b) Outside Areas of National Jurisdiction in the 2005/06 Season

Species toothfish

Area 58.4.3b

Season 2005/06

Gear longline

The Commission hereby adopts the following conservation measure in accordance with Conservation Measure 21-02:

Access

1. Fishing for Dissostichus spp. on BANZARE Bank (Statistical Division 58.4.3b) outside areas of national jurisdiction shall be limited to the exploratory fishery by Australia, Chile, Republic of Korea, Spain and Uruguay. The fishery shall be conducted by Australian, Chilean, Korean, Spanish and Uruguayan flagged vessels using longlines only. No more than one vessel per country shall fish at any one time.

Catch Limit

2. The total catch of Dissostichus spp. on BANZARE Bank (Statistical Division 58.4.3b) outside areas of national jurisdiction in the 2005/06 season shall not exceed a precautionary catch limit of 300 tonnes.

3. For the purpose of the exploratory longline fishery for Dissostichus spp. on BANZARE Bank (Statistical Division 58.4.3b) outside areas of national jurisdiction, the 2005/06 season is defined as the period from 1 May to 31 August 2006, or until the catch limit is reached, whichever is sooner.

Season

By-Catch

4. The by-catch in this fishery shall be regulated as set out in Conservation Measure 33-03.

Mitigation

5. The operation of this fishery shall be carried out in accordance with Conservation Measure 25-02 so as to minimise the incidental mortality of seabirds in the course of fishing.

6. The fishery on BANZARE Bank (Statistical Division 58.4.3b) outside areas of national jurisdiction, may take place outside the prescribed season (paragraph 3) provided that, prior to entry into force of the licence and prior to entering the Convention Area, each vessel shall demonstrate its capacity to comply with experimental line-weighting trials as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2005/06 fishing season.

Observers

8. Each vessel participating in this fishery shall have at least one scientific observer appointed in accordance with the CCAMLR Scheme of International Scientific Observation, and where possible one additional scientific observer, on board throughout all fishing activities within the fishing period.

Data: Catch Effort

9. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research

12. Each vessel participating in this exploratory fishery shall conduct fishery-based research in accordance with the Research Plan and Tagging Program described in Conservation Measure 41-01, Annex B and Annex C respectively.

Conservation Measure 41-08 (2005)

Limits on the Fishery for Dissostichus eleginoides in Statistical Division 58.5.2 in the 2005/06 Season

Species toothfish

Area 58.5.2

Season 2005/06

Gear various

1. The fishery for Dissostichus eleginoides in Statistical Division 58.5.2 shall be conducted by vessels using trawls, pots or longlines only.

Access

2. The total catch of Dissostichus eleginoides in Statistical Division 58.5.2 in the 2005/06 season shall be limited to 2 584 tonnes west of 79°20'E.

Catch Limit

3. For the purpose of the trawl and pot fisheries for Dissostichus eleginoides in Statistical Division 58.5.2, the 2005/06 season is defined as the period from 1 December 2005 to 30 November 2006, or until the catch limit is reached, whichever is sooner. For the purpose of the longline fishery for Dissostichus eleginoides in Statistical Division 58.5.2, the 2005/06 season is defined as the period from 1 May to 31 August 2006, or until the catch limit is reached, whichever is sooner. The season for longline fishing operations may be extended to 30 September 2006 for any vessel which has demonstrated full compliance with Conservation Measure 25-02 in the 2004/05 season. This extension to the season will also be subject to a catch limit of three (3) seabirds per vessel. If three seabirds are caught during the season extension, fishing shall cease immediately for that vessel.

Season

By-Catch

4. Fishing shall cease if the by-catch of any species reaches its by-catch limit as set out in Conservation Measure 33-02.

Mitigation

5. The operation of the trawl fishery shall be carried out in accordance with Conservation Measure 25-03 so as to minimise the incidental mortality of seabirds and mammals through the course of fishing. The operation of the longline fishery shall be carried out in accordance with Conservation Measure 25-02, except paragraph 4 (night setting) shall not apply for vessels using integrated weighted lines (IWLs). Such vessels may deploy IWL gear during daylight hours if, prior to entry into force of the licence and prior to entering the Convention Area, each vessel shall demonstrate its capacity to comply with experimental line-weighting trials as approved by the Scientific Committee and described in Conservation Measure 24-02.

Observers

6. Each vessel participating in this fishery shall have at least one scientific observer, and may include one appointed in accordance with the CCAMLR Scheme of International Scientific Observation, on board throughout all fishing activities within the fishing period.

Data: Catch/Effort

7. For the purpose of implementing this conservation measure, the following shall apply:

(i) The Ten-day Catch and Effort Reporting System set out in Annex 41-08/A;

(ii) The Monthly Fine-scale Catch and Effort Reporting System set out in Annex 41-08/A. Fine-scale data shall be submitted on a haul-by-haul basis.

8. For the purpose of Annex 41-08/A, the target species is Dissostichus eleginoides and by-catch species are defined as any species other than Dissostichus eleginoides.

9. The total number and weight of Dissostichus eleginoides discarded, including those with the “jellymeat” condition, shall be reported. These fish will count towards the total allowable catch.

Data: Biological

10. Fine-scale biological data, as required under Annex 41-08/A, shall be collected and recorded. Such data shall be reported in accordance with the CCAMLR Scheme of International Scientific Observation.

Annex 41-08/A

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Dissostichus eleginoides and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date. A fine-scale catch, effort and biological data reporting system shall be implemented:

(i) The scientific observer(s) aboard each vessel shall collect the data required to complete the CCAMLR fine-scale catch and effort data form C1 for trawl fishing, form C2 for longline fishing, or form C5 for pot fishing, latest versions. These data shall be submitted to the CCAMLR Secretariat not later than one month after the vessel returns to port;

(ii) The catch of Dissostichus eleginoides and of all by-catch species must be reported;

(iii) The numbers of seabirds and marine mammals of each species caught and released or killed must be reported;

(iv) The scientific observer(s) aboard each vessel shall collect data on the length composition from representative samples of Dissostichus eleginoides and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 41-09 (2005)

Limits on the Exploratory Fishery for Dissostichus spp. in Statistical Subarea 88.1 in the 2005/06 Season

Species toothfish

Area 88.1

Season 2005/06

Gear longline

The Commission hereby adopts the following conservation measure in accordance with Conservation Measure 21-02:

Access

1. Fishing for Dissostichus spp. in Statistical Subarea 88.1 shall be limited to the exploratory longline fishery by Argentina, Republic of Korea, New Zealand, Norway, Russia, South Africa, Spain, UK and Uruguay. The fishery shall be conducted by a maximum in the season of two (2) Argentine, two (2) Korean, five (5) New Zealand, one (1) Norwegian, two

(2) Russian, one (1) South African, three (3) Spanish, two (2) UK and three (3) Uruguayan flagged vessels using longlines only.

Catch Limit

2. The total catch of Dissostichus spp. in Statistical Subarea 88.1 in the 2005/06 season shall not exceed a precautionary catch limit of 2 964 tonnes applied as follows:

SSRU A—0 tonnes

SSRUs B, C and G—348 tonnes total; SSRU D—0 tonnes

SSRU E—0 tonnes

SSRU F—0 tonnes

SSRUs H, I and K—1 893 tonnes total

SSRU J—551 tonnes

SSRU L—172 tonnes.

3. For the purpose of the exploratory longline fishery for Dissostichus spp. in Statistical Subarea 88.1, the 2005/06 season is defined as the period from 1 December 2005 to 31 August 2006.

Season

Fishing Operations

4. The exploratory longline fishery for Dissostichus spp. in Statistical Subarea 88.1 shall be carried out in accordance with the provisions of Conservation Measure 41-01, except paragraph 6.

By-Catch

5. The total by-catch in Statistical Subarea 88.1 in the 2005/06 season shall not exceed a precautionary catch limit of 148 tonnes of skates and rays, and 474 tonnes of Macrourus spp. Within these total by-catch limits, individual limits will apply as follows:

SSRU A—0 tonnes of any species

SSRUs B, C and G total—50 tonnes of skates and rays, 56 tonnes of Macrourus spp., 60 tonnes of other species

SSRU D—0 tonnes of any species

SSRU E—0 tonnes of any species

SSRU F—0 tonnes of any species

SSRUs H, I and K total—95 tonnes of skates and rays, 303 tonnes of Macrourus spp., 60 tonnes of other species

SSRU J—50 tonnes of skates and rays, 88 tonnes of Macrourus spp., 20 tonnes of other species

SSRU L—50 tonnes of skates and rays, 28 tonnes of Macrourus spp., 20 tonnes of other species.

The by-catch in this fishery shall be regulated as set out in Conservation Measure 33-03.

6. The exploratory longline fishery for Dissostichus spp. in Statistical Subarea 88.1 shall be carried out in accordance with the provisions of Conservation Measure 25-02, except paragraph 4 (night setting), which shall not apply as long as the requirements of Conservation Measure 24-02 are met.

Mitigation

7. Any vessel catching a total of three (3) seabirds shall immediately revert to night setting in accordance with Conservation Measure 25-02.

8. There shall be no offal discharge in this fishery.

Observers

9. Each vessel participating in the fishery shall have at least two scientific observers, one of whom shall be an observer appointed in accordance with the CCAMLR Scheme of International Scientific Observation, on board throughout all fishing activities within the fishing period.

VMS

10. Each vessel participating in this exploratory longline fishery shall be required to operate a VMS at all times, in accordance with Conservation Measure 10-04.

CDS

11. Each vessel participating in this exploratory longline fishery shall be required to participate in the Catch Documentation Scheme for Dissostichus spp., in accordance with Conservation Measure 10-05.

Research

12. Each vessel participating in this exploratory fishery shall conduct fishery-based research in accordance with the Research Plan and Tagging Program described in Conservation Measure 41-01, Annex B and Annex C respectively. The setting of research hauls (Conservation Measure 41-01, Annex B, paragraphs 3 and 4) is not required.

13. Research fishing under Conservation Measure 24-01 shall be limited to 10 tonnes of catch and one vessel in each of SSRUs A, D, E and F during the 2005/06 season. Catches of Dissostichus spp. taken in SSRUs E and F under the provisions of Conservation Measure 24-01 shall be considered as part of the catch limit for Statistical Subarea 88.1. Catches of Dissostichus spp. taken in SSRUs A and D under the provisions of Conservation Measure 24-01 shall not be considered as part of the catch limit for Statistical Subarea 88.1.

Data: Catch/Effort

14. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

15. For the purpose of Conservation Measures 23-01 and 23-04, the target species is Dissostichus spp. and by-catch species are defined as any species other than Dissostichus spp.

Data: Biological

16. Fine-scale biological data, as required under Conservation Measure 23-05, shall be collected and recorded. Such data shall be reported in accordance with the CCAMLR Scheme of International Scientific Observation.

Discharge

17. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional Elements

18. No live poultry or other living birds shall be brought into Statistical Subarea 88.1 and any dressed poultry not consumed shall be removed from Statistical Subarea 88.1.

19. Fishing for Dissostichus spp. in Statistical Subarea 88.1 shall be prohibited within 10 n miles of the coast of the Balleny Islands.

Conservation Measure 41-10 (2005)

Limits on the Exploratory Fishery for Dissostichus spp. in Statistical Subarea 88.2 in the 2005/06 Season

Species toothfish

Area 88.2

Season 2005/06

Gear longline

The Commission hereby adopts the following conservation measure in accordance with Conservation Measure 21-02:

Access

1. Fishing for Dissostichus spp. in Statistical Subarea 88.2 shall be limited to the exploratory longline fishery by Argentina, Republic of Korea, New Zealand, Norway, Russia, Spain, UK and Uruguay. The fishery shall be conducted by a maximum in the season of two (2) Argentine, one (1) Korean, five (5) New Zealand, one (1) Norwegian, two (2) Russian, three (3) Spanish, two (2) UK and one (1) Uruguayan flagged vessels using longlines only.

Catch limit

2. The total catch of Dissostichus spp. in Statistical Subarea 88.2 south of 65°S in the 2005/06 season shall not exceed a precautionary catch limit of 487 tonnes applied as follows:

SSRU A—0 tonnes

SSRU B—0 tonnes

SSRUs C, D, F and G—214 tonnes total

SSRU E—273 tonnes.

3. For the purpose of the exploratory longline fishery for Dissostichus spp. in Statistical Subarea 88.2, the 2005/06 season is defined as the period from 1 December 2005 to 31 August 2006.

Season

4. The exploratory longline fishery for Dissostichus spp. in Statistical Subarea 88.2 shall be carried out in accordance with the provisions of Conservation Measure 41-01, except paragraph 6.

By-Catch

5. The total by-catch in Statistical Subarea 88.2 in the 2005/06 season shall not exceed a precautionary catch limit of 50 tonnes of skates and rays, and 78 tonnes of Macrourus spp. Within these total by-catch limits, individual limits will apply as follows:

SSRU A—0 tonnes of any species

SSRU B—0 tonnes of any species

SSRUs C, D, F, G—50 tonnes of skates and rays, 34 tonnes of Macrourus spp., 20 tonnes of other species in any SSRU;

SSRU E—50 tonnes of skates and rays, 44 tonnes of Macrourus spp., 20 tonnes of other species.

The by-catch in this fishery shall be regulated as set out in Conservation Measure 33-03.

6. The exploratory longline fishery for Dissostichus spp. in Statistical Subarea 88.2 shall be carried out in accordance with the provisions of Conservation Measure 25-02, except paragraph 4 (night setting), which shall not apply as long as the requirements of Conservation Measure 24-02 are met.

Mitigation

7. Any vessel catching a total of three (3) seabirds shall immediately revert to night setting in accordance with Conservation Measure 25-02.

8. There shall be no offal discharge in this fishery.

Observers

9. Each vessel participating in the fishery shall have at least two scientific observers, one of whom shall be an observer appointed in accordance with the CCAMLR Scheme of International Scientific Observation, on board throughout all fishing activities within the fishing period.

VMS

10. Each vessel participating in this exploratory longline fishery shall be required to operate a VMS at all times, in accordance with Conservation Measure 10-04.

CDS

11. Each vessel participating in this exploratory longline fishery shall be required to participate in the Catch Documentation Scheme for Dissostichus spp., in accordance with Conservation Measure 10-05.

Research

12. Each vessel participating in this exploratory fishery shall conduct fishery-based research in accordance with the Research Plan and Tagging Program described in Conservation Measure 41-01, Annex B and Annex C respectively. The setting of research hauls (Conservation Measure 41-01, Annex B, paragraphs 3 and 4) is not required.

13. Research fishing under Conservation Measure 24-01 shall be limited to 0 tonnes of catch and one vessel in each of SSRUs A and B during the 2005/06 season. Catches of Dissostichus spp. taken under the provisions of Conservation Measure 24-01 shall be considered as part of the catch limit for Subarea 88.2.

Data: Catch/Effort

14. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

15. For the purpose of Conservation Measures 23-01 and 23-04, the target species is Dissostichus spp. and by-catch species are defined as any species other than Dissostichus spp.

Data: Biological

16. Fine-scale biological data, as required under Conservation Measure 23-05, shall be collected and recorded. Such data shall be reported in accordance with the CCAMLR Scheme of International Scientific Observation.

Discharge

17. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional Elements

18. No live poultry or other living birds shall be brought into Statistical Subarea 88.2 and any dressed poultry not consumed shall be removed from Statistical Subarea 88.2.

Conservation Measure 41-11 (2005)

Limits on the Exploratory Fishery for Dissostichus spp. in Statistical Division 58.4.1 in the 2005/06 Season

Species toothfish

Area 58.4.1

Season 2005/06

Gear longline

The Commission hereby adopts the following conservation measure in accordance with Conservation Measure 21-02, and notes that this measure would be for one year and that data arising from these activities would be reviewed by the Scientific Committee:

Access

1. Fishing for Dissostichus spp. in Statistical Division 58.4.1 shall be limited to the exploratory longline fishery by Australia, Chile, Republic of Korea, New Zealand, Spain and Uruguay. The fishery shall be conducted by one (1) Australian, two (2) Chilean, two (2) Korean, three (3) New Zealand, two (2) Spanish and one (1) Uruguayan flagged vessels using longlines only.

2. The total catch of Dissostichus spp. in Statistical Division 58.4.1 in the 2005/06 season shall not exceed a precautionary catch limit of 600 tonnes, of which no more than 200 tonnes shall be taken in any one of the eight small-scale research units (SSRUs) as detailed in Annex B of Conservation Measure 41-01.

Catch Limit

3. Catch limits for each of the SSRUs for Statistical Division 58.4.1, shall be as follows: A - 0 tonnes; B - 0 tonnes; C - 200 tonnes; D - 0 tonnes; E - 200 tonnes; F - 0 tonnes; G - 200 tonnes; H - 0 tonnes.

4. For the purpose of the exploratory longline fishery for Dissostichus spp. in Statistical Division 58.4.1, the 2005/06 season is defined as the period from 1 December 2005 to 30 November 2006.

Season

5. The exploratory longline fishery for Dissostichus spp. in Statistical Division 58.4.1 shall be carried out in accordance with the provisions of Conservation Measure 41-01, except paragraph 6.

Fishing Operations

6. Fishing will be prohibited in depths less than 550 m in order to protect benthic communities.

By-catch

7. The by-catch in this fishery shall be regulated as set out in Conservation Measure 33-03.

8. The exploratory longline fishery for Dissostichus spp. in Statistical Division 58.4.1 shall be carried out in accordance with the provisions of Conservation Measure 25-02, except paragraph 4 (night setting) shall not apply, providing that vessels comply with Conservation Measure 24-02.

Mitigation

9. Any vessel catching a total of three (3) seabirds shall immediately revert to night setting in accordance with Conservation Measure 25-02.

10. There shall be no offal discharge in this fishery.

Observers

11. Each vessel participating in the fishery shall have at least two scientific observers, one of whom shall be an observer appointed in accordance with the CCAMLR Scheme of International Scientific Observation, on board throughout all fishing activities within the fishing period.

Research

12. Each vessel participating in this exploratory fishery shall conduct fishery-based research in accordance with the Research Plan and Tagging Program described in Conservation Measure 41-01, Annex B and Annex C respectively.

Data: catch/effort

13. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data: Biological

15. Fine-scale biological data, as required under Conservation

Measure 23-05, shall be collected and recorded. Such data shall be reported in accordance with the CCAMLR Scheme of International Scientific Observation.

Discharge

16. All vessels participating in this exploratory fishery shall, south of 60° S, be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional Elements

17. No live poultry or other living birds shall be brought into Statistical Division 58.4.1 south of 60° S and any dressed poultry not consumed shall be removed from Statistical Division 58.4.1 south of 60°S.

Conservation Measure 42-01 (2005)

Limits on the Fishery for Champsocephalus gunnari in Statistical Subarea 48.3 in the 2005/06 Season

Species icefish

Area 48.3

Season 2005/06

Gear trawl

The Commission hereby adopts the following conservation measure in accordance with Conservation Measure 31-01:

1. The fishery for Champsocephalus gunnari in Statistical Subarea 48.3 shall be conducted by vessels using trawls only. The use of bottom trawls in the directed fishery for Champsocephalus gunnari in Statistical Subarea 48.3 is prohibited.

Access

2. Fishing for Champsocephalus gunnari shall be prohibited within 12 n miles of the coast of South Georgia during the period 1 March to 31 May (spawning period).

3. The total catch of Champsocephalus gunnari in Statistical Subarea 48.3 in the 2005/06 season shall be limited to 2,244 tonnes. Any catch taken between 1 October and 14 November 2005 shall be counted against the catch limit for the 2005/06 fishing season. The total catch of Champsocephalus gunnari taken in the period 1 March to 31 May shall be limited to 561 tonnes.

Catch Limit

4. Where any haul contains more than 100 kg of Champsocephalus gunnari, and more than 10% of the Champsocephalus gunnari by number are smaller than 240 mm total length, the fishing vessel shall move to another fishing location at least 5 n miles distant ¹. The fishing vessel shall not return to any point within 5 n miles of the location where the catch of small Champsocephalus gunnari exceeded 10%, for a period of at least five days ². The location where the catch of small Champsocephalus gunnari exceeded 10% is defined as the path followed by the fishing vessel from the point at which the fishing gear was first deployed from the fishing vessel to the point at which the fishing gear was retrieved by the fishing vessel.

5. For the purpose of the trawl fishery for Champsocephalus gunnari in Statistical Subarea 48.3, the 2005/06 season is defined as the period from 15 November 2005 to 14 November 2006, or until the catch limit is reached, whichever is sooner.

Season

By-Catch

6. The by-catch in this fishery shall be regulated as set out in Conservation Measure 33-01. If, in the course of the directed fishery for Champsocephalus gunnari, the by-catch in any one haul of any of the species named in Conservation Measure 33-01

• Is greater than 100 kg and exceeds 5% of the total catch of all fish by weight, or

• Is equal to or greater than 2 tonnes, then the fishing vessel shall move to another location at least 5 n miles distant ¹.

The fishing vessel shall not return to any point within 5 n miles of the location where the by-catch of species named in Conservation Measure 33-01 exceeded 5% for a period of at least five days ². The location where the by-catch exceeded 5% is defined as the path followed by the fishing vessel from the point at which the fishing gear was first deployed from the fishing vessel to the point at which the fishing gear was retrieved by the fishing vessel.

Mitigation

7. The operation of this fishery shall be carried out in accordance with Conservation Measure 25-03 so as to minimize the incidental mortality of seabirds in the course of the fishery.

8. Should any vessel catch a total of 20 seabirds, it shall cease fishing and shall be excluded from further participation in the fishery in the 2005/06 season.

Observers

9. Each vessel participating in this fishery shall have at least one scientific observer appointed in accordance with the CCAMLR Scheme of International Scientific Observation, and where possible one additional scientific observer, on board throughout all fishing activities within the fishing period.

Data: Catch/Effort

10. For the purpose of implementing this conservation measure in the 2005/06 season, the following shall apply:

(i) The Five-day Catch and Effort Reporting System set out in Conservation Measure 23-01;

(ii) The Monthly Fine-scale Catch and Effort Reporting System set out in Conservation Measure 23-04. Fine-scale data shall be submitted on a haul-by-haul basis.

11. For the purpose of Conservation Measures 23-01 and 23-04, the target species is Champsocephalus gunnari and by-catch species are defined as any species other than Champsocephalus gunnari.

Data: Biological

12. Fine-scale biological data, as required under Conservation Measure 23-05, shall be collected and recorded. Such data shall be reported in accordance with the CCAMLR Scheme of International Scientific Observation.

Research

13. Each vessel operating in this fishery during the period 1 March to 31 May 2006 shall conduct twenty (20) research trawls in the manner described in Annex 42-01/A.

¹ This provision concerning the minimum distance separating fishing locations is adopted pending the adoption of a more appropriate definition of a fishing location by the Commission.

² The specified period is adopted in accordance with the reporting period specified in Conservation Measure 23-01, pending the adoption of a more appropriate period by the Commission.

Annex 42-01/A

Research Trawls During Spawning Season

1. All fishing vessels taking part in the fishery for Champsocephalus gunnari in Statistical Subarea 48.3 between 1 March and 31 May shall be required to conduct a minimum of 20 research hauls, to be completed during that period. Twelve research hauls shall be carried out in the Shag Rocks—Black Rocks area. These shall be distributed between the four sectors illustrated in Figure 1: Four each in the NW and SE sectors, and two each in the NE and SW sectors. A further eight research hauls shall be conducted on the northwestern shelf of South Georgia over water less than 300 m deep, as illustrated in Figure 1.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible weight. More fish should be examined if the catch is large and time permits.

Figure 1: Distribution of 20 research hauls on Champsocephalus gunnari at Shag Rocks (12) and South Georgia (8) from 1 March to 31 May. Haul locations around South Georgia (stars) are illustrative.

Conservation Measure 42-02 (2005)

Limits on the Fishery for Champsocephalus gunnari in Statistical Division 58.5.2 in the 2005/06 Season

Species icefish

Area 58.5.2

Season 2005/06

Gear trawl

Access

1. The fishery for Champsocephalus gunnari in Statistical Division 58.5.2 shall be conducted by vessels using trawls only.

For the purpose of this fishery for Champsocephalus gunnari, the area open to the fishery is defined as that portion of Statistical Division 58.5.2 that lies within the area enclosed by a line:

(i) Starting at the point where the meridian of longitude 72°15′E intersects the Australia—France Maritime Delimitation Agreement Boundary then south along the meridian to its intersection with the parallel of latitude 53°25′S; 2.

(ii) Then east along that parallel to its intersection with the meridian of longitude 74°E;

(iii) Then northeasterly along the geodesic to the intersection of the parallel of latitude 52°40′S and the meridian of longitude 76°E;

(iv) Then north along the meridian to its intersection with the parallel of latitude 52°S;

(v) Then northwesterly along the geodesic to the intersection of the parallel of latitude 51°S with the meridian of longitude 74°30′E;

(vi) Then southwesterly along the geodesic to the point of commencement.

3. A chart illustrating the above definition is appended to this conservation measure (Annex 42-02/A). Areas in Statistical Division 58.5.2 outside that defined above shall be closed to directed fishing for Champsocephalus gunnari.

Catch Limit

4. The total catch of Champsocephalus gunnari in Statistical Division 58.5.2 in the 2005/06 season shall be limited to 1 210 tonnes.

5. Where any haul contains more than 100 kg of Champsocephalus gunnari, and more than 10% of the Champsocephalus gunnari by number are smaller than the specified minimum legal total length, the fishing vessel shall move to another fishing location at least 5 n miles distant ¹. The fishing vessel shall not return to any point within 5 n miles of the location where the catch of small Champsocephalus gunnari exceeded 10% for a period of at least five days ². The location where the catch of small Champsocephalus gunnari exceeded 10% is defined as the path followed by the fishing vessel from the point at which the fishing gear was first deployed from the fishing vessel to the point at which the fishing gear was retrieved by the fishing vessel. The minimum legal total length shall be 240 mm.

Season

6. For the purpose of the trawl fishery for Champsocephalus gunnari in Statistical Division 58.5.2, the 2005/06 season is defined as the period from 1 December 2005 to 30 November 2006, or until the catch limit is reached, whichever is sooner.

By-Catch

7. Fishing shall cease if the by-catch of any species reaches its by-catch limit as set out in Conservation Measure 33-02.

Mitigation

8. The operation of this fishery shall be carried out in accordance with Conservation Measure 25-03 so as to minimise the incidental mortality of seabirds in the course of fishing.

Observers

9. Each vessel participating in this fishery shall have at least one scientific observer, and may include one appointed in accordance with the CCAMLR Scheme of International Scientific Observation, on board throughout all fishing activities within the fishing period.

Data: Catch/Effort

10. For the purpose of implementing this conservation measure in the 2005/06 season, the following shall apply:

(i) The Ten-day Catch and Effort Reporting System set out in Annex 42-02/B;

(ii) The Monthly Fine-scale Catch and Effort Reporting System set out in Annex 42-02/B. Fine-scale data shall be submitted on a haul-by-haul basis.

11. For the purpose of Annex 42-02/B, the target species is Champsocephalus gunnari and by-catch species are defined as any species other than Champsocephalus gunnari.

Data: Biological

12. Fine-scale biological data, as required under Annex 42-02/B, shall be collected and recorded. Such data shall be reported in accordance with the CCAMLR Scheme of International Scientific Observation.

¹ This provision concerning the minimum distance separating fishing locations is adopted pending the adoption of a more appropriate definition of a fishing location by the Commission.

² The specified period is adopted in accordance with the reporting period specified in Conservation Measure 23-01, pending the adoption of a more appropriate period by the Commission.

ANNEX 42-02/A

CHART OF THE HEARD ISLAND PLATEAU

ANNEX 42-02/B

DATA REPORTING SYSTEM

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Champsocephalus gunnari and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Champsocephalus gunnari and of all by-catch species must be reported;

(iii) The numbers of seabirds and marine mammals of each species caught and released or killed must be reported;

(iv) The scientific observer(s) aboard each vessel shall collect data on the length composition from representative samples of Champsocephalus gunnari and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 52-01 (2005)

Limits on the Fishery for Crab in Statistical Subarea 48.3 in the 2005/06 Season

Species crab

Area 48.3

Season 2005/06

Gear pot

The Commission hereby adopts the following conservation measure in accordance with Conservation Measure 31-01:

Access

1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorised to participate in the crab fishery.

Catch Limit

4. The total catch of crab in Statistical Subarea 48.3 in the 2005/06 season shall not exceed a precautionary catch limit of 1 600 tonnes.

5. The crab fishery shall be limited to sexually mature male crabs—all female and undersized male crabs caught shall be released unharmed. In the case of Paralomis spinosissima and Paralomis formosa, males with a minimum carapace width of 94 and 90 mm respectively, may be retained in the catch.

Season

6. For the purpose of the pot fishery for crab in Statistical Subarea 48.3, the 2005/06 season is defined as the period from 1 December 2005 to 30 November 2006, or until the catch limit is reached, whichever is sooner.

7. The by-catch of Dissostichus eleginoides shall be counted against the catch limit in the fishery for Dissostichus eleginoides in Statistical Subarea 48.3.

By-Catch

Observers

8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort

9. For the purpose of implementing this conservation measure in the 2005/06 season, the following shall apply:

(i) The Ten-day Catch and Effort Reporting System set out in Conservation Measure 23-02;

(ii) The Monthly Fine-scale Catch and Effort Reporting System set out in Conservation Measure 23-04. Fine-scale data shall be submitted on a haul-by-haul basis.

10. For the purpose of Conservation Measures 23-02 and 23-04 the target species is crab and by-catch species are defined as any species other than crab.

Data: Biological

11. Fine-scale biological data, as required under Conservation Measure 23-05, shall be collected and recorded. Such data shall be reported in accordance with the CCAMLR Scheme of International Scientific Observation.

Research

12. Each vessel participating in this exploratory fishery shall conduct fishery-based research in accordance with the data requirements described in Annex 52-01/A and the experimental harvest regime described in Conservation Measure 52-02. Data collected for the period up to 31 August 2006 shall be reported to CCAMLR by 30 September 2006 so that the data will be available to the meeting of the Working Group on Fish Stock Assessment (WG-FSA) in 2006. Such data collected after 31 August 2006 shall be reported to CCAMLR not later than three months after the closure of the fishery.

Annex 52-01/A

Data Requirements on the Crab Fishery in Statistical Subarea 48.3

Catch and Effort Data:

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Table 1: Data requirements for by-catch species in the crab fishery in Statistical Subarea 48.3.

Species Data requirements

Dissostichus eleginoides Numbers and estimated total weight

Notothenia rossii Numbers and estimated total weight

Other species Estimated total weight

Biological Data: For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Conservation Measure 52-02 (2005)

Experimental Harvest Regime for the Crab Fishery in Statistical Subarea 48.3 in the 2005/06 Season

Species crab

Area 48.3

Se 20 ason 05/06

Gear pot

The following measures apply to all crab fishing within Statistical Subarea 48.3 in the 2005/06 fishing season. Every vessel participating in the crab fishery in Statistical Subarea 48.3 shall conduct fishing operations in accordance with an experimental harvest regime as outlined below:

1. Vessels shall conduct the experimental harvest regime in the 2005/06 season at the start of their first season of participation in the crab fishery and the following conditions shall apply:

(i) Every vessel when undertaking an experimental harvesting regime shall expend its first 200 000 pot hours of effort within a total area delineated by twelve blocks of 0.5° latitude by 1.0° longitude. For the purposes of this conservation measure, these blocks shall be numbered A to L. In Annex 52-02/A, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30 000 pot hours in any single block of 0.5° latitude by 1.0° longitude;

(iv) If a vessel returns to port before it has expended 200 000 pot hours in the experimental harvesting regime, the remaining pot hours shall be expended before it can be considered that the vessel has completed the experimental harvesting regime;

(v) After completing 200 000 pot hours of experimental fishing, it shall be considered that vessels have completed the experimental harvesting regime and they shall be permitted to commence fishing in a normal fashion.

2. Data collected during the experimental harvest regime up to 30 June 2006 shall be submitted to CCAMLR by 31 August 2006.

3. Normal fishing operations shall be conducted in accordance with the regulations set out in Conservation Measure 52-01.

4. For the purposes of implementing normal fishing operations after completion of the experimental harvest regime, the Ten-day Catch and Effort Reporting System set out in Conservation Measure 23-02 shall apply.

5. Vessels that complete experimental harvest regime shall not be required to conduct experimental fishing in future seasons. However, these vessels shall abide by the guidelines set forth in Conservation Measure 52-01.

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

Annex 52-02/A

Locations of Fishing Areas for the Experimental Harvest Regime of the Exploratory Crab Fishery

AA BB CC DD EE FF GG

M

Y

N Q

U

O

R V

P

S

W

T

X Z

HH

II

Figure 1: Operations area for Phase 1 of the experimental harvest regime for the crab fishery in Statistical Subarea 48.3.

Conservation Measure 61-01 (2005)

Limits on the Exploratory Fishery for Martialia hyadesi in Statistical Subarea 48.3 in the 2005/06 Season

Species squid

Area 48.3

Season 2005/06

Gear jig

The Commission hereby adopts the following conservation measure in accordance with Conservation Measures 21-02 and 31-01:

Access

1. Fishing for Martialia hyadesi in Statistical Subarea 48.3 shall be limited to the exploratory jig fishery by notifying countries. The fishery shall be conducted by vessels using jigs only.

2. The total catch of Martialia hyadesi in Statistical Subarea 48.3 in the 2005/06 season shall not exceed a precautionary catch limit of 2 500 tonnes.

Catch Limit

3. For the purpose of the exploratory jig fishery for Martialia hyadesi in Statistical Subarea 48.3, the 2005/06 season is defined as the period from 1 December 2005 to 30 November 2006, or until the catch limit is reached, whichever is sooner.

Season

Observers

4. Each vessel participating in this fishery shall have at least one scientific observer appointed in accordance with the CCAMLR Scheme of International Scientific Observation, and where possible one additional scientific observer, on board throughout all fishing activities within the fishing period.

Data: Catch/Effort

5. For the purpose of implementing this conservation measure in the 2005/06 season, the following shall apply:

(i) The Ten-day Catch and Effort Reporting System set out in Conservation Measure 23-02;

(ii) The Monthly Fine-scale Catch and Effort Reporting System set out in Conservation Measure 23-04. Fine-scale data shall be submitted on a haul-by-haul basis.

6. For the purpose of Conservation Measures 23-02 and 23-04, the target species is Martialia hyadesi and by-catch species are defined as any species other than Martialia hyadesi.

Data: Biological

7. Fine-scale biological data, as required under Conservation Measure 23-05, shall be collected and recorded. Such data shall be reported in accordance with the CCAMLR Scheme of International Scientific Observation.

Research

8. Each vessel participating in this exploratory fishery shall collect data in accordance with the Data Collection Plan described in Annex 61-01/A. Data collected pursuant to the plan for the period up to 31 August 2006 shall be reported to CCAMLR by 30 September 2006 so that the data will be available to the meeting of the Working Group on Fish Stock Assessment (WG-FSA) in 2006.

Annex 61-01/A

Data Collection Plan for Exploratory Squid (Martialia Hyadesi) Fisheries in Statistical Subarea 48.3

1. All vessels will comply with conditions set by CCAMLR. These include data required to complete the data form (Form TAC) for the Ten-day Catch and Effort Reporting System, as specified by Conservation Measure 23-02; and data required to complete the CCAMLR standard fine-scale catch and effort data form for a squid jig fishery (Form C3). This includes numbers of seabirds and marine mammals of each species caught and released or killed.

2. All data required by the CCAMLR Scientific Observers Manual for squid fisheries will be collected. These include:

(i) Vessel and observer program details (Form S1);

(ii) Catch information (Form S2);

(iii) Biological data (Form S3).

Resolution 24/XXIV

Non-Contracting Party Cooperation Enhancement Program

The Commission, Concerned that illegal, unreported and unregulated (IUU) fishing vessels are increasingly conducting their fishing operations under flags of non-Contracting Parties and moving their catches through ports of non-Contracting Parties to circumvent CCAMLR rules, Believing that this problem should be addressed by encouraging cooperation between non-Contracting Parties and CCAMLR through:

1. The exchange of information about IUU fishing with CCAMLR;

2. Participation in key CCAMLR initiatives, such as the Catch Documentation Scheme for Dissostichus spp. (CDS), through implementation of conservation measures;

3. Acceding to the Convention and/or joining the Commission, as appropriate, Noting that some non-Contracting Party States wish to cooperate with CCAMLR but lack the capacity to do so, Recognising that a structured program of technical cooperation to build the capacity of key non-Contracting Party Flag and Port States would assist them to combat IUU fishing activity and trade and support wider implementation of CCAMLR conservation measures,

Noting that for its cooperation enhancement program to be effective Members will need to commit, support and be willing to deliver technical assistance, advice and training to non-Contracting Parties,

1. Recommends that Members consider, at CCAMLR-XXV, the development of a cooperation enhancement program with the following attributes:

(i) A focus on technical cooperation;

(ii) Flexibility to tailor cooperation to meet the needs of both the Commission and the recipient State on a case-by-case basis;

(iii) A partnership model involving the CCAMLR Secretariat, experienced CCAMLR Member(s) as sponsors and the recipient States(s);

(iv) Matching of sponsors and recipients based on expertise, historical relationships between States and proximity;

(v) Central repository of information and training material by the CCAMLR Secretariat.

2. Decides to establish a priority list of States that may benefit from technical cooperation and develop clear criteria for investing in cooperation enhancement.

Dated: January 11, 2006.
Margaret F. Hayes,
Director, Office of Oceans Affairs, Department of State.

[FR Doc. 06-503 Filed 1-25-06; 8:45 am]

BILLING CODE 3510-22-P